NUCLEAR REGULATORY COMMISSION

Biweekly Notice; Applications and Amendments to Facility Operating Licenses Involving No Significant Hazards Considerations

I. Background

Pursuant to section 189a.(2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from December 23, 2004, through January 5, 2005. The last biweekly notice was published on January 4, 2005 (70 FR 398).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination. Within 60 days after the date of publication of this notice, the licensee may file a request for a hearing with respect to issuance of the amendment to the subject facility operating license and any person whose interest may be affected by this proceeding and who wishes to participate as a party in the proceeding must file a written request for a hearing and a petition for leave to intervene.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D22, Two White Flint North, 11545 Rockville Pike, Rockville, Maryland, from 7:30 a.m. to 4:15 p.m. Federal workdays. Copies of written comments received may be examined at the Commission's Public Document Room (PDR), located at One White Flint North, Public File Area O1F21, 11555 Rockville Pike (first floor), Rockville, Maryland. The filing of requests for a hearing and petitions for leave to intervene is discussed below.

Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland, 20852, Attention: Rulemaking and Adjudications Staff; (3) e-mail addressed to the Office of the Secretary, U.S. Nuclear Regulatory Commission, HearingDocket@nrc.gov; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to (301) 415-3725 or by e-mail to OGCMailCenter@nrc.gov. A copy of the request for hearing and petition for leave to intervene should also be sent to the attorney for the licensee.

Nontimely requests and/or petitions and contentions will not be entertained absent a determination by the Commission or the presiding officer of the Atomic Safety and Licensing Board that the petition, request and/or the contentions should be granted based on a balancing of the factors specified in 10 CFR 2.309(a)(1)(i)-(viii).

For further details with respect to this action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Dominion Nuclear Connecticut, Inc., Docket No. 50-336, Millstone Power Station, Unit No. 2, New London County, Connecticut

Date of amendment request: July 15, 2004, supplemented by letter dated August 23, 2004.

Description of amendment request: The amendment would revise Operating License DPR-65 to address the resolution of a non-conservative Technical Specification (TS) associated with control room isolation radiation monitoring instrumentation. Specifically, the amendment would revise the TS to require two operable channels of control room isolation radiation monitoring instrumentation.

Basis for proposed no significant hazards consideration determination: As required by 10 CFR 50.91(a), the licensee has provided its analysis of the issue of no significant hazards consideration. The NRC staff has reviewed the licensee's analysis against the standards of 10 CFR 50.92(c). The NRC staff's review is presented below:

1. Involve a significant increase in the probability or consequences of an accident previously evaluated.

The proposed change involves requirements to maintain two operable channels in order to add a level of detection capability and greater assurance that the safety function for control room isolation is met. In addition, the proposed change will not alter the setpoint value for the radiation monitors nor will it affect the method for control room air filtration during the emergency mode of operation. Therefore, the proposed change from one operable channel to two operable channels for the control room isolation radiation monitoring instrumentation will not increase the probability of consequences of any previously evaluated accident.

2. Create the possibility of a new or different kind of accident from any accident previously evaluated.

The proposed change involves radiation monitoring channels designed to send a signal to isolate the control room when high radiation levels are detected to limit the radiological dose to the control room operators in the event of an accident. In addition, the proposed change will not have an impact on the setpoint value to change the radiation level at which control room isolation is assumed to occur. Again, the proposed change will not introduce failure modes, accident initiators, or malfunctions. Therefore, the proposed change from one operable channel to two operable channels for the control room isolation radiation monitoring instrumentation, will not create the possibility of a new or different kind of accident from any accident previously evaluated.

3. Involve a significant reduction in a margin of safety.

Increasing the number of radiation monitoring channels for the control room isolation radiation monitoring instrumentation will not reduce a margin of safety. The proposed change to add requirements to the TS for a redundant radiation monitoring channel will increase the reliability of the system to perform its intended function. In addition, the proposed change will add appropriate compensatory actions for conditions when both channels are not available. Therefore, given that the proposed change will continue to meet the current design basis, any reduction in a margin of safety would not be significant.

Based on the NRC staff's analysis, it appears that the three standards of 10 CFR 50.929(c) are satisfied. Therefore, the NRC staff proposes to determine that the amendment request involves no significant hazards consideration.

Attorney for licensee: Lillian M. Cuoco, Senior Nuclear Counsel, Dominion Nuclear Connecticut, Inc., Rope Ferry Road, Waterford, CT 06385.

NRC Section Chief: Darrell J. Roberts.

Dominion Nuclear Connecticut, Inc., Docket Nos. 50-245, 50-336, and 50-423, Millstone Nuclear Power Station, Unit Nos. 1, 2, and 3, New London County, Connecticut

Date of amendment request: September 8, 2002.

Description of amendment request: The proposed amendment would modify the Technical Specifications to support the implementation of the proposed Dominion Nuclear Facility Quality Assurance Program (Topical Report DOM-QA-1). Implementation of this Topical Report would create a common quality assurance program for all sites owned by Dominion Nuclear Connecticut, Inc. Review of this proposed amendment was requested to be done in concert with review of the Topical Report. The Topical Report is available in the Agencywide Document Access and Management System under accession number ML042470015.

Basis for proposed no significant hazards consideration determination: As required by 10 CFR 50.91(a), the licensee has provided its analysis of the issue of no significant hazards consideration, which is presented below:

1. Involve a significant increase in the probability or consequences of an accident previously evaluated.

The proposed changes do not involve a significant increase in the probability or consequence of an accident previously analyzed. The changes involve the transfer of requirements from the administrative section of the Technical Specifications to the Consolidated Quality Assurance Program and other licensee controlled documents. Therefore, the proposed changes are administrative in nature, and have no effect on a design basis accident, and will not increase the probability or consequences of any previously analyzed accident.

2. Create the possibility of a new or different kind of accident from any accident previously evaluated.

The implementation of the proposed changes does not create the possibility of an accident of a different type than was previously evaluated in the Updated Final Safety Analysis Report (UFSAR). The transfer of requirements concerning facility staff qualifications from the administrative section of the Technical Specifications to the Consolidated Quality Assurance Program and other licensee controlled documents can not initiate a new or different kind of accident.

These changes do not alter the nature of events postulated in the UFSAR nor do they introduce any unique precursor mechanisms. Therefore, the proposed changes are administrative in nature and do not create the possibility of a new or different kind of accident from those previously analyzed.

3. Involve a significant reduction in a margin of safety.

The implementation of the proposed changes does not reduce the margin of safety. The proposed changes to transfer certain requirements from the administration section of the Technical Specifications to the Consolidated Quality Assurance Program and other licensee controlled documents have no effect on design bases radiological events. It is thus concluded that the proposed changes are administrative in nature and the margin of safety will not be reduced by the implementation of the changes.

Based on this review, it appears that the three standards of 10 CFR 50.92(c) are satisfied. Therefore, the NRC staff proposes to determine that the amendment request involves no significant hazards consideration.

Attorney for licensee: Lillian M. Cuoco, Senior Nuclear Counsel, Dominion Nuclear Connecticut, Inc., Rope Ferry Road, Waterford, CT 06385.

NRC Section Chief: Darrell J. Roberts.

Entergy Nuclear Vermont Yankee, LLC and Entergy Nuclear Operations, Inc., Docket No. 50-271, Vermont Yankee Nuclear Power Station, Vernon, Vermont

Date of amendment request: December 6, 2004.

Description of amendment request: The proposed amendment would make administrative changes to the Technical Specifications (TSs) including correction of references and deleting obsolete or redundant TS requirements and surveillances.

Basis for proposed no significant hazards consideration determination: As required by 10 CFR 50.91(a), the licensee has provided its analysis of the issue of no significant hazards consideration which is presented below:

1. The operation of Vermont Yankee Nuclear Power Station in accordance with the proposed amendment will not involve a significant increase in the probability or consequences of an accident previously evaluated.

The proposed changes are administrative or editorial in nature and do not involve any physical changes to the plant. The changes do not revise the methods of plant operation which could increase the probability or consequences of accidents. No new modes of operation are introduced by the proposed changes such that a previously evaluated accident is more likely to occur or more adverse consequences would result.

Therefore, the proposed changes do not involve a significant increase in the probability or consequences of an accident previously evaluated.

2. The operation of Vermont Yankee Nuclear Power Station in accordance with the proposed amendment will not create the possibility of a new or different kind of accident from any accident previously evaluated.

These changes are administrative or editorial in nature and do not affect the operation of any systems or equipment, nor do they involve any potential initiating events that would create any new or different kind of accident. There are no changes to the design assumptions, conditions, configuration of the facility, or manner in which the plant is operated and maintained. The changes do not affect assumptions contained in plant safety analyses or the physical design and/or modes of plant operation. Consequently, no new failure mode is introduced.

Therefore, the proposed changes do not create the possibility of a new or different kind of accident from any previously evaluated.

3. The operation of Vermont Yankee Nuclear Power Station in accordance with the proposed amendment will not involve a significant reduction in a margin of safety.

There are no changes being made to the Technical Specification (TS) safety limits or safety system settings. The operating limits and functional capabilities of systems, structures and components are unchanged as a result of these administrative and editorial changes. These changes do not affect any equipment involved in potential initiating events or plant response to accidents. There is no change to the basis for any TS that is related to the establishment, or maintenance of, a nuclear safety margin.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. David R. Lewis, Shaw, Pittman, Potts and Trowbridge, 2300 N Street, NW., Washington, DC 20037-1128.

NRC Section Chief: Allen G. Howe.

Entergy Nuclear Vermont Yankee, LLC and Entergy Nuclear Operations, Inc., Docket No. 50-271, Vermont Yankee Nuclear Power Station, Vernon, Vermont

Date of amendment request: December 7, 2004.

Description of amendment request: The proposed amendment would revise the Technical Specifications (TSs) to: (1) Delete the surveillance requirement (SR) associated with testing of the standby liquid control (SLC) pump discharge pressure relief valves; and (2) remove details from the SR for testing of the recirculation pump discharge valves.

Basis for proposed no significant hazards consideration determination: As required by 10 CFR 50.91(a), the licensee has provided its analysis of the issue of no significant hazards consideration which is presented below:

1. The operation of Vermont Yankee Nuclear Power Station (VY) in accordance with the proposed amendment will not involve a significant increase in the probability or consequences of an accident previously evaluated.

The proposed amendment removes details of SLC pressure relief valve and recirculation pump discharge valve testing requirements from the TS. Following implementation of the proposed change, the VY TS will still require operability testing of the subject components by reference to the VY IST [Inservice Testing] Program. Details of SLC pressure relief valve and recirculation pump discharge valve testing requirements will still be contained in the VY IST Program. The SLC pressure relief valve and recirculation pump discharge valve setpoint values related to the safety functions of those systems will continue to be contained in the VY UFSAR [Updated Final Safety Analysis Report]. Changes to the VY UFSAR are evaluated per the requirements of 10 CFR 50.59. These controls are adequate to ensure the required inservice testing is performed to verify the components are operable and capable of performing their respective safety functions. The proposed amendment introduces no new equipment or changes to how equipment is operated. Neither the SLC pressure relief valves nor the recirculation pump discharge valves are initiators of any analyzed accidents. Therefore, operation of VY in accordance with the proposed amendment will not involve a significant increase in the probability or consequences of an accident previously evaluated.

2. The operation of Vermont Yankee Nuclear Power Station (VY) in accordance with the proposed amendment will not create the possibility of a new or different kind of accident from any accident previously evaluated.

The proposed amendment removes details of SLC pressure relief valve and recirculation pump discharge valve testing requirements from the TS. The proposed amendment does not change the design or function of any component or system. No new modes of failure or initiating events are being introduced. Therefore, operation of VY in accordance with the proposed amendment will not create the possibility of a new or different kind of accident from any accident previously evaluated.

3. The operation of Vermont Yankee Nuclear Power Station (VY) in accordance with the proposed amendment will not involve a significant reduction in a margin of safety.

The proposed amendment removes details of SLC pressure relief valve and recirculation pump discharge valve testing requirements from the TS. The proposed amendment does not change the design or function of any component or system. The proposed amendment does not involve any safety limits or limiting safety system settings.

Since the proposed controls are adequate to ensure the required inservice testing is performed, there will still be high assurance that the components are operable and capable of performing their respective safety functions, and that the systems will respond as designed to mitigate the subject events. Therefore, operation of VY in accordance with the proposed amendment will not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. David R. Lewis, Shaw, Pittman, Potts and Trowbridge, 2300 N Street, NW, Washington, DC 20037-1128.

NRC Section Chief: Allen G. Howe.

Entergy Nuclear Vermont Yankee, LLC and Entergy Nuclear Operations, Inc., Docket No. 50-271, Vermont Yankee Nuclear Power Station, Vernon, Vermont

Date of amendment request: December 15, 2004.

Description of amendment request: The proposed amendment would revise the limiting conditions for operation in Technical Specification (TS) 3.3 and the surveillance requirements in TS 4.3 associated with the control rod system. Specifically, the proposed changes would revise the TSs associated with: (1) Control rod operability; (2) control rod scram time testing; and (3) control rod accumulator operability.

Basis for proposed no significant hazards consideration determination: As required by 10 CFR 50.91(a), the licensee has provided its analysis of the issue of no significant hazards consideration which is presented below:

1. The operation of Vermont Yankee Nuclear Power Station in accordance with the proposed amendment will not involve a significant increase in the probability or consequences of an accident previously evaluated.

The proposed changes do not significantly affect the design or fundamental operation and maintenance of the plant. Accident initiators or the frequency of analyzed accident events are not significantly affected as a result of the proposed changes; therefore, there will be no significant change to the probabilities of accidents previously evaluated.

The proposed changes do not significantly alter assumptions or initial conditions relative to the mitigation of an accident previously evaluated. The proposed changes continue to ensure process variables, structures, systems, and components (SSCs) are maintained consistent with the safety analyses and licensing basis. The revised technical specifications continue to require that SSCs are properly maintained to ensure operability and performance of safety functions as assumed in the safety analyses. The design basis events analyzed in the safety analyses will not change significantly as a result of the proposed changes to the TS.

Therefore, the proposed changes do not involve a significant increase in the probability or consequences of an accident previously evaluated.

2. The operation of Vermont Yankee Nuclear Power Station in accordance with the proposed amendment will not create the possibility of a new or different kind of accident from any accident previously evaluated.

The proposed changes do not involve any physical alteration of the plant (no new or different type of equipment being installed) and do not involve a change in the design, normal configuration or basic operation of the plant. The proposed changes do not introduce any new accident initiators. In some cases, the proposed changes impose different requirements; however, these new requirements are consistent with the assumptions in the safety analyses and current licensing basis. Where requirements are relocated to other licensee-controlled documents, adequate controls exist to ensure their proper maintenance.

The proposed changes do not involve significant changes in the fundamental methods governing normal plant operation and do not require unusual or uncommon operator actions. The proposed changes provide assurance that the plant will not be operated in a mode or condition that violates the essential assumptions or initial conditions in the safety analyses and that SSCs remain capable of performing their intended safety functions as assumed in the same analyses. Consequently, the response of the plant and the plant operator to postulated events will not be significantly different.

Therefore, the proposed TS change does not create the possibility of a new or different kind of accident from any previously evaluated.

3. The operation of Vermont Yankee Nuclear Power Station in accordance with the proposed amendment will not involve a significant reduction in a margin of safety.

Margin of safety is related to the confidence in the ability of the fission product barriers to perform their design functions during and following an accident situation. The proposed changes do not significantly affect any of the assumptions, initial conditions or inputs to the safety analyses. Plant design is unaffected by these proposed changes and will continue to provide adequate defense-in-depth and diversity of safety functions as assumed in the safety analyses.

There are no proposed changes to any of the Safety Limits or Limiting Safety System Setting requirements. The proposed changes maintain requirements consistent with safety analyses assumptions and the licensing basis. Fission product barriers will continue to meet their design capabilities without any significant impact to their ability to maintain parameters within acceptable limits. The safety functions are maintained within acceptable limits without any significant decrease in capability.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. David R. Lewis, Shaw, Pittman, Potts and Trowbridge, 2300 N Street, NW., Washington, DC 20037-1128.

NRC Section Chief: Allen G. Howe.

Entergy Operations, Inc., Docket No. 50-313, Arkansas Nuclear One, Unit No. 1, Pope County, Arkansas

Date of amendment request: December 20, 2004.

Description of amendment request: The requested change will delete the requirements in Technical Specification (TS) 5.6.1, “Occupational Radiation Exposure Report,” and TS 5.6.4, “Monthly Operating Reports.”

The NRC staff issued a notice of availability of a model no significant hazards consideration (NSHC) determination for referencing in license amendment applications in the Federal Register on June 23, 2004 (69 FR 35067). The licensee affirmed the applicability of the model NSHC determination in its application dated December 20, 2004.

Basis for proposed no significant hazards consideration determination: As required by 10 CFR 50.91(a), an analysis of the issue of no significant hazards consideration is presented below:

1. Does the proposed change involve a significant increase in the probability or consequences of an accident previously evaluated?

Response: No.

The proposed change eliminates the Technical Specifications (TSs) reporting requirements to provide a monthly operating letter report of shutdown experience and operating statistics if the equivalent data is submitted using an industry electronic database. It also eliminates the TS reporting requirement for an annual occupational radiation exposure report, which provides information beyond that specified in NRC regulations. The proposed change involves no changes to plant systems or accident analyses. As such, the change is administrative in nature and does not affect initiators of analyzed events or assumed mitigation of accidents or transients. Therefore, the proposed change does not involve a significant increase in the probability or consequences of an accident previously evaluated.

2. Does the proposed change create the possibility of a new or different kind of accident from any accident previously evaluated?

Response: No.

The proposed change does not involve a physical alteration of the plant, add any new equipment, or require any existing equipment to be operated in a manner different from the present design. Therefore, the proposed change does not create the possibility of a new or different kind of accident from any accident previously evaluated.

3. Does the proposed change involve a significant reduction in a margin of safety?

Response: No.

This is an administrative change to reporting requirements of plant operating information and occupational radiation exposure data, and has no effect on plant equipment, operating practices or safety analyses assumptions. For these reasons, the proposed change does not involve a significant reduction in the margin of safety.

Based upon the reasoning presented above, the requested change does not involve significance hazards consideration.

Attorney for licensee: Nicholas S. Reynolds, Esquire, Winston and Strawn, 1400 L Street, NW., Washington, DC 20005-3502.

NRC Section Chief: Michael A. Webb (Acting).

Entergy Operations, Inc., Docket No. 50-368, Arkansas Nuclear One, Unit No. 2, Pope County, Arkansas

Date of amendment request: December 20, 2004.

Description of amendment request: The requested change will delete the requirements in Technical Specification (TS) 6.6.1, “Occupational Radiation Exposure Report,” and TS 6.6.4, “Monthly Operating Reports.”

The NRC staff issued a notice of availability of a model no significant hazards consideration (NSHC) determination for referencing in license amendment applications in the Federal Register on June 23, 2004 (69 FR 35067). The licensee affirmed the applicability of the model NSHC determination in its application dated December 20, 2004.

Basis for proposed no significant hazards consideration determination: As required by 10 CFR 50.91(a), an analysis of the issue of no significant hazards consideration is presented below:

1. Does the proposed change involve a significant increase in the probability or consequences of an accident previously evaluated?

Response: No.

The proposed change eliminates the Technical Specifications (TSs) reporting requirements to provide a monthly operating report of shutdown experience and operating statistics if the equivalent data is submitted using an industry electronic database. It also eliminates the TS reporting requirement for an annual occupational radiation exposure report, which provides information beyond that specified in NRC regulations. The proposed change involves no changes to plant systems or accident analyses. As such, the change is administrative in nature and does not affect initiators of analyzed events or assumed mitigation of accidents or transients. Therefore, the proposed change does not involve a significant increase in the probability or consequences of an accident previously evaluated.

2. Does the proposed change create the possibility of a new or different kind of accident from any accident previously evaluated?

Response: No.

The proposed change does not involve a physical alteration of the plant, add any new equipment, or require any existing equipment to be operated in a manner different from the present design. Therefore, the proposed change does not create the possibility of a new or different kind of accident from any accident previously evaluated.

3. Does the proposed change involve a significant reduction in a margin of safety?

Response: No.

This is an administrative change to reporting requirements of plant operating information and occupational radiation exposure data, and has no effect on plant equipment, operating practices or safety analyses assumptions. For these reasons, the proposed change does not involve a significant reduction in the margin of safety.

Based upon the reasoning presented above, the requested change does not involve significance hazards consideration.

Attorney for licensee: Nicholas S. Reynolds, Esquire, Winston and Strawn, 1400 L Street, NW., Washington, DC 20005-3502.

NRC Section Chief: Michael A. Webb (Acting).

Florida Power Corporation, et al., Docket No. 50-302, Crystal River Unit 3 Nuclear Generating Plant, Citrus County, Florida

Date of amendment request: October 14, 2004.

Brief description of amendments: The proposed change will revise the surveillance requirement (SR) 3.6.6.8 frequency of every 10 years. Instead, the proposed change to SR 3.6.6.8 will require verification that spray nozzles are unobstructed following maintenance that could result in nozzle blockage.

Basis for proposed no significant hazards consideration determination: As required by 10 CFR 50.91(a), the licensee has provided its analysis of the issue of no significant hazards consideration, which is presented below and states that the amendment request:

1. Does not involve a significant increase in the probability or consequences of an accident previously evaluated.

The proposed change modifies the [Surveillance Requirements] SR to verify that the [Reactor Building] RB spray nozzles are unobstructed after maintenance that could introduce material that could result in nozzle blockage. The spray nozzles are not assumed to be initiators of any previously analyzed accident. Therefore, the change does not increase the probability of any accident previously evaluated. The spray nozzles are assumed in the accident analyses to mitigate design basis accidents. The revised SR to verify system OPERABILITY following maintenance is considered adequate to ensure OPERABILITY of the RB spray system. Since the system will still be able to perform its accident mitigation function, the consequences of accidents previously evaluated are not increased. Therefore, the proposed change does not involve a significant increase in the probability or consequences of an accident previously evaluated.

2. Does not create the possibility of a new or different type of accident from any accident previously evaluated.

The proposed change revises the SR to verify that the RB spray nozzles are unobstructed after maintenance that could result in nozzle blockage. The change does not introduce a new mode of plant operation and does not involve physical modification to the plant. The change will not introduce new accident initiators or impact the assumptions made in the safety analysis. Therefore, the proposed change does not create the possibility of a new or different kind of accident from any previously evaluated.

3. Does not involve a significant reduction in the margin of safety.

The proposed change revises the frequency for performance of the SR to verify that the RB spray nozzles are unobstructed. The frequency is changed from every 10 years to following maintenance that could result in nozzle blockage. This requirement, along with foreign material exclusion programs and the remote physical location of the spray nozzles, provides assurance that the spray nozzles will remain unobstructed. As the spray nozzles are expected to remain unobstructed and able to perform their post-accident mitigation function, plant safety is not significantly affected. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Steven R. Carr, Associate General Counsel—Legal Department, Progress Energy Service Company, LLC, Post Office Box 1551, Raleigh, North Carolina 27602.

NRC Section Chief: Michael L. Marshall, Jr.

Nebraska Public Power District, Docket No. 50-298, Cooper Nuclear Station, Nemaha County, Nebraska

Date of amendment request: November 22, 2004.

Description of amendment request: The requested change will delete the requirements in Technical Specification (TS) 5.6.1, “Occupational Radiation Exposure Report,” and TS 5.6.4, “Monthly Operating Reports.”

The NRC staff issued a notice of availability of a model no significant hazards consideration (NSHC) determination for referencing in license amendment applications in the Federal Register on June 23, 2004 (69 FR 35067). The licensee affirmed the applicability of the model NSHC determination in its application dated November 22, 2004.

Basis for proposed no significant hazards consideration determination: As required by 10 CFR 50.91(a), an analysis of the issue of no significant hazards consideration is presented below:

1. Does the proposed change involve a significant increase in the probability or consequences of an accident previously evaluated?

Response: No.

The proposed change eliminates the Technical Specifications (TSs) reporting requirements to provide a monthly operating report of shutdown experience and operating statistics if the equivalent data is submitted using an industry electronic database. It also eliminates the TS reporting requirement for an annual occupational radiation exposure report, which provides information beyond that specified in NRC regulations. The proposed change involves no changes to plant systems or accident analyses. As such, the change is administrative in nature and does not affect initiators of analyzed events or assumed mitigation of accidents or transients. Therefore, the proposed change does not involve a significant increase in the probability or consequences of an accident previously evaluated.

2. Does the proposed change create the possibility of a new or different kind of accident from any accident previously evaluated?

Response: No.

The proposed change does not involve a physical alteration of the plant, add any new equipment, or require any existing equipment to be operated in a manner different from the present design. Therefore, the proposed change does not create the possibility of a new or different kind of accident from any accident previously evaluated.

3. Does the proposed change involve a significant reduction in a margin of safety?

Response: No.

This is an administrative change to reporting requirements of plant operating information and occupational radiation exposure data, and has no effect on plant equipment, operating practices or safety analyses assumptions. For these reasons, the proposed change does not involve a significant reduction in the margin of safety.

Based upon the reasoning presented above, the requested change does not involve significance hazards consideration.

Attorney for licensee: Mr. John R. McPhail, Nebraska Public Power District, Post Office Box 499, Columbus, NE 68602-0499.

NRC Section Chief: Michael K. Webb (Acting).

Nuclear Management Company, LLC, Docket No. 50-263, Monticello Nuclear Generating Plant, Wright County, Minnesota

Date of amendment request: April 29, 2004, as supplemented November 23, 2004.

Description of amendment request: The proposed amendment is a selective-scope application of an alternative source term (AST) for the fuel handling accident (FHA) in accordance with Title 10 of the Code of Federal Regulations (10 CFR) Section 50.67, “Accident Source Term.”

Basis for proposed no significant hazards consideration determination: As required by 10 CFR 50.91(a), the licensee has provided its analysis of the issue of no significant hazards consideration, which is presented below:

1. Does the proposed change involve a significant increase in the probability or consequences of an accident previously evaluated?

Response: No.

The proposed amendment involves implementation of the AST for the fuel handling accident at MNGP [Monticello Nuclear Generating Plant]. There are no physical design modifications to the plant associated with the proposed amendment. The revised calculations do not impact the initiators of an FHA in any way.

The changes also do not impact the initiators for any other design basis accident (DBA) or events. Therefore, because DBA initiators are not being altered by adoption of the AST analyses, the probability of an accident previously evaluated is not affected.

With respect to consequences, the only previously evaluated accident that could be affected is the FHA. The AST is an input to calculations used to evaluate the consequences of the accident, and does not, in and of itself, affect the plant response or the actual pathways to the environment utilized by the radiation/activity released by the fuel. It does however, better represent the physical characteristics of the release, so that appropriate mitigation techniques may be applied. For the FHA, the AST analyses demonstrate acceptable doses that are within regulatory limits after 24 hours of radiological decay, without credit for Secondary Containment integrity, selected ESF [engineered safety feature] filtration system operation (i.e., SBGT [standby gas treatment] System or Control Room EFT [emergency filtration] System) or Control Room isolation. Therefore, the consequences of an accident previously evaluated are not significantly increased.

Based on the above conclusions, this proposed amendment does not involve a significant increase in the probability or consequences of an accident previously evaluated.

2. Does the proposed change create the possibility of a new or different kind of accident from any accident previously evaluated?

Response: No.

The proposed amendment does not involve a physical alteration of the plant. No new or different types of equipment will be installed and there are no physical modifications to existing equipment associated with the proposed changes. Also, no changes are proposed to the methods governing plant/system operation during handling of irradiated fuel, so no new initiators or precursors of a new or different kind of accident are created. New equipment or personnel failure modes that might initiate a new type of accident are not created as a result of the proposed amendment.

Therefore, the proposed changes do not create the possibility of a new or different kind of accident from any previously analyzed.

3. Does the proposed change involve a significant reduction in the margin of safety?

Response: No.

The proposed amendment is associated with the implementation of a new licensing basis for the MNGP FHA. Approval of this change from the original source term to an alternative source term derived in accordance with the guidance of RG 1.183 [“Alternative Radiological Source Terms for Evaluating Design Basis Accidents at Nuclear Power Reactors”] is being requested. The results of the FHA accident analysis, revised in support of the proposed license amendment, are subject to revised acceptance criteria. The AST FHA analysis has been performed using conservative methodologies, as specified in RG 1.183. Safety margins have been evaluated and analytical conservatism has been utilized to ensure that the analyses adequately bound the postulated limiting event scenario. The dose consequences of the limiting FHA remain within the acceptance criteria presented in 10 CFR 50.67 and RG 1.183.

The proposed changes continue to ensure that the doses at the Exclusion Area Boundary (EAB) and Low Population Zone (LPZ) boundaries, as well as the Control Room, are within the corresponding regulatory limits. For the FHA, RG 1.183 conservatively sets the EAB and LPZ limits below the 10 CFR 50.67 limit, and sets the Control Room limit consistent with 10 CFR 50.67.

Since the proposed amendment continues to ensure the doses at the EAB, LPZ and Control Room are within corresponding regulatory limits, the proposed license amendment does not involve a significant reduction in a margin of safety.

Based on the above, NMC has determined that operation of the facility in accordance with the proposed change does not involve a significant hazards consideration as defined in 10 CFR 50.92(c), in that it: (1) Does not involve a significant increase in the probability or consequences of an accident previously evaluated; (2) does not create the possibility of a new or different kind of accident from any accident previously evaluated; and (3) does not involve a significant reduction in a margin of safety.

The U. S. Nuclear Regulatory Commission (NRC) staff has reviewed the licensee's analysis and, based on this review, it appears that the three standards of 10 CFR 50.92(c) are satisfied. Therefore, the NRC staff proposes to determine that the amendment request involves no significant hazards consideration.

Attorney for licensee: Jonathan Rogoff, Esquire, Vice President, Counsel & Secretary, Nuclear Management Company, LLC, 700 First Street, Hudson, WI 54016.

NRC Section Chief: L. Raghavan.

Nuclear Management Company, LLC, Docket No. 50-263, Monticello Nuclear Generating Plant, Wright County, Minnesota

Date of amendment request: June 30, 2004, as supplemented November 5, 2004.

Description of amendment request: The proposed amendment would revise the technical specifications (TSs) to implement a 24-month fuel cycle.

Basis for proposed no significant hazards consideration determination: As required by Title 10 of the Code of Federal Regulations (10 CFR) 50.91(a), the licensee has provided its analysis of the issue of no significant hazards consideration (NSHC), which is presented below:

1. The proposed amendment does not involve a significant increase in the probability or consequences of an accident previously evaluated.

a. Surveillance Testing Interval Extensions

The proposed Technical Specification (TS) changes involve changes in the surveillance testing to facilitate a change in the operating cycle from 18 months to 24 months. The proposed TS changes do not physically impact the normal operation of the plant, nor do they impact any design or functional requirements of the associated systems. That is, the proposed TS changes neither impact the TS SRs [surveillance requirements] themselves nor the manner in which the surveillances are performed.

In addition, the proposed TS changes do not introduce any accident initiators, since no accidents previously evaluated relate to the frequency of surveillance testing. Also, evaluations of the proposed TS changes demonstrate that the availability of equipment and systems required to prevent or mitigate the radiological consequences of an accident are not significantly affected because of other, more frequent testing that is performed, the availability of redundant systems and equipment, or the high reliability of the equipment. Since the impact on the systems is minimal NMC [Nuclear Management Company] has concluded that the overall impact on the plant safety analysis is negligible.

A historical review of surveillance test results and associated maintenance records indicated that there was no evidence of any failure that would invalidate the above conclusions.

Therefore, the proposed TS changes do not significantly increase the probability or consequences of an accident previously evaluated.

b. TS Trip Setting Changes

Changes are proposed to the Monticello TS Trip Settings. The proposed changes are a result of application of the Monticello Instrument Setpoint Methodology using plant-specific drift values. Application of this methodology results in Trip Setpoints that more accurately reflect total instrumentation loop accuracy, as well as that of test equipment and calculated drift between surveillances. The proposed changes will not result in hardware changes. The instrumentation is not assumed to be initiators of any analyzed events, nor do they impact any design or functional requirements of the associated systems. Existing operating margins between plant conditions and actual plant setpoints are not significantly reduced due to the proposed changes. The role of the instrumentation is in mitigating and thereby, limiting the consequences of accidents.

The Nominal Trip Setpoints were developed to ensure the design and safety analysis limits are satisfied. The methodology used for the development of the Trip Settings ensures: (1) The affected instrumentation remains capable of mitigating design basis events as described in the safety analysis; and, (2) the results and radiological consequences described in the safety analysis remain bounding. The proposed changes do not alter the plant's ability to detect and mitigate events.

Therefore, these changes do not involve a significant increase in the probability or consequences of an accident previously evaluated.

c. Surveillance Testing Interval Reductions

The proposed TS changes involve reductions in the surveillance testing intervals from once per operating cycle or refueling outage to once every three (3) months or once per quarter for the equipment associated with these TS SRs. The shorter intervals are based upon the plant-specific results of a review of the surveillance test history for this equipment. The implementing procedures for these SRs have been performed on a once per three (3) month or once per quarter interval for a number of years, and these changes more accurately reflect actual plant maintenance practices. The proposed, more restrictive TS changes do not physically impact the plant, nor do they impact any design or functional requirements of the associated systems. That is, the proposed TS changes neither degrade the performance of, nor increase the challenges to, any safety system assumed to function in the safety analysis. These proposed TS changes neither impact the TS SRs themselves nor the manner in which the surveillances are performed.

The proposed TS changes do not introduce any accident initiators, since no accident previously evaluated relate to the frequency of surveillance testing. The proposed TS intervals demonstrate that the equipment and systems required to prevent or mitigate the radiological consequences of an accident are continuing to meet the assumptions of the setpoint evaluation on a more frequent basis. Since the impacts on systems are minimal and the assumptions of the safety analyses are maintained, NMC has concluded that the overall impact on the plant safety analysis is negligible.

Therefore, the proposed TS changes do not significantly increase the probability or consequences of any accident previously evaluated.

2. The proposed amendment does not create the possibility of a new or different kind or accident from any accident previously evaluated.

a. Surveillance Testing Interval Extensions

The proposed TS changes involve changes in the surveillance testing intervals to facilitate a change in the operating cycle length. The proposed TS changes do not introduce any failure mechanisms of a different type than those previously evaluated. There are no physical changes being made to the facility. No new or different equipment is being installed. No installed equipment is being operated in a different manner. As a result no new failure modes are introduced. The SRs themselves, and the manner in which surveillance tests are performed, remain unchanged.

A historical review of surveillance test results and associated maintenance records indicated that there was no evidence of any failure that would invalidate the above conclusions.

Therefore, the proposed TS changes do not create the possibility of a new or different kind of accident from any previously evaluated.

b. TS Trip Setting Changes

The proposed changes to the Trip Settings are a result of applying the Monticello Instrument Setpoint Methodology using plant-specific drift values. The application of this methodology does not create the possibility of any new or different kinds of accidents from any accidents previously evaluated. This is based upon the fact that the method and manner of plant operations are unchanged.

The use of the proposed Trip Setpoints does not impact the safe operation of the plant in that the safety analysis limits are maintained. The proposed changes in Trip Settings involve no system additions or physical modifications to plant systems. The Trip Settings are revised to ensure the affected instrumentation remains capable of mitigating accidents and transients. Plant equipment will not be operated in a manner different from previous operation. Since operational methods remain unchanged and the operating parameters were evaluated to maintain the plant within existing design basis criteria no different type of failure or accident is created.

Therefore, the proposed TS changes do not create the possibility of a new or different kind of accident from any previously evaluated.

c. Surveillance Testing Interval Reductions

The proposed TS changes involve reductions in the surveillance testing intervals from once per operating cycle or refueling outage to once every three (3) months or once per quarter for the equipment associated with these TS SRs. The shorter intervals are based upon the plant-specific results of a review of the surveillance test history for this equipment. The implementing procedures for these SRs have been performed on a once per three (3) month or once per quarter interval for a number of years and these changes more accurately reflect actual plant maintenance practices. The proposed more restrictive TS changes do not physically impact the plant, nor do they impact any design or functional requirements of the associated systems. That is, the proposed TS changes neither degrade the performance of, nor increase the challenges to, any safety system assumed to function in the safety analysis. These proposed TS changes neither impact the TS SRs themselves nor the manner in which the surveillances are performed.

The proposed TS changes do not introduce any failure mechanism of a different type than those previously evaluated. The proposed changes make no physical changes to the plant. No new or different equipment is being installed. No installed equipment is being operated in a different manner.

A historical review of surveillance test results and associated maintenance records indicate that there is no evidence of any failure that would invalidate the above conclusions.

Therefore, the proposed TS changes do not create the possibility of a new or different kind of accident from any previously evaluated.

3. The proposed amendment will not involve a significant reduction in a margin of safety.

a. Surveillance Testing Interval Extensions

Although the proposed TS changes result in changes in the interval between surveillance tests, the impact, if any, on system availability is minimal based upon other, more frequent testing that is performed, the existence of redundant systems and equipment or overall system reliability. Evaluations show there is no evidence of any time-dependant failure that would impact system availability.

The proposed changes do not significantly impact the condition or performance of structures, systems and components relied upon for accident mitigation. The proposed TS changes do not physically impact the plant, nor do they impact any design or functional requirements of the associated systems. The proposed changes do not significantly impact any safety analysis assumptions or results.

Therefore, the proposed changes do not involve a significant reduction in a margin of safety.

b. TS Trip Setting Changes

The proposed changes do not involve a reduction in a margin of safety. The proposed changes were developed using a Monticello Instrument Setpoint Methodology using plant-specific drift values. This methodology ensures no safety analysis limits are exceeded. The proposed TS changes do not physically impact the plant, nor do they impact any design or functional requirements of the associated systems.

As such, these proposed changes do not involve a reduction in a margin of safety.

c. Surveillance Testing Interval Reductions

The proposed TS changes result in a shorter interval between surveillance tests to ensure the assumptions of the safety analysis are maintained. The impact, if any, on system availability is minimal, as a result of the more frequent testing that is performed. The proposed changes do not significantly impact the condition or performance of structures, systems and components relied upon for accident mitigation. The proposed TS changes do not physically impact the plant, nor do they impact any design or functional requirements of the associated systems. The proposed changes do not significantly impact any safety analysis assumptions or results.

Therefore, the proposed changes do not involve a significant reduction in a margin of safety.

The U. S. Nuclear Regulatory Commission (NRC) staff has reviewed the licensee's analysis and, based on this review, it appears that the three standards of 10 CFR 50.92(c) are satisfied. Therefore, the NRC staff proposes to determine that the amendment request involves NSHC.

Attorney for licensee: Jonathan Rogoff, Esquire, Vice President, Counsel & Secretary, Nuclear Management Company, LLC, 700 First Street, Hudson, WI 54016.

NRC Section Chief: L. Raghavan.

Omaha Public Power District, Docket No. 50-285, Fort Calhoun Station, Unit No. 1, Washington County, Nebraska

Date of amendment request: September 8, 2004.

Description of amendment request: The proposed amendment deletes the requirements from the technical specifications (TS) to maintain containment hydrogen monitors. Licensees were generally required to implement upgrades as described in NUREG-0737, “Clarification of TMI [Three Mile Island] Action Plan Requirements,” and Regulatory Guide (RG) 1.97, “Instrumentation for Light-Water-Cooled Nuclear Power Plants to Assess Plant and Environs Conditions During and Following an Accident.” Implementation of these upgrades was an outcome of the lessons learned from the accident that occurred at TMI Unit 2. Requirements related to combustible gas control were imposed by Order for many facilities and were added to or included in the TS for nuclear power reactors currently licensed to operate. The revised 10 CFR 50.44, “Standards for Combustible Gas Control System in Light-Water-Cooled Power Reactors,” eliminated the requirements for hydrogen recombiners and relaxed safety classifications and licensee commitments to certain design and qualification criteria for hydrogen and oxygen monitors.

The NRC staff issued a notice of availability of a model no significant hazards consideration determination for referencing in license amendment applications in the Federal Register on September 25, 2003 (68 FR 55416). The licensee affirmed the applicability of the relevant portions of the model NSHC determination (TS for Fort Calhoun do not include requirements for hydrogen recombiners) in its application dated September 8, 2004.

Basis for proposed no significant hazards consideration determination: As required by 10 CFR 50.91(a), an analysis of the issue of no significant hazards consideration is presented below:

Criterion 1—The Proposed Change Does Not Involve a Significant Increase in the Probability or Consequences of an Accident Previously Evaluated

The revised 10 CFR 50.44 no longer defines a design-basis loss-of-coolant accident (LOCA) hydrogen release, and eliminates requirements for hydrogen control systems to mitigate such a release. The installation of hydrogen recombiners and/or vent and purge systems required by 10 CFR 50.44(b)(3) was intended to address the limited quantity and rate of hydrogen generation that was postulated from a design-basis LOCA. The Commission has found that this hydrogen release is not risk-significant because the design-basis LOCA hydrogen release does not contribute to the conditional probability of a large release up to approximately 24 hours after the onset of core damage. In addition, these systems were ineffective at mitigating hydrogen releases from risk-significant accident sequences that could threaten containment integrity.

With the elimination of the design-basis LOCA hydrogen release, hydrogen monitors are no longer required to mitigate design-basis accidents and, therefore, the hydrogen monitors do not meet the definition of a safety-related component as defined in 10 CFR 50.2. Category 1 in RG 1.97 is intended for key variables that most directly indicate the accomplishment of a safety function for design-basis accident events. The hydrogen monitors no longer meet the definition of Category 1 in RG 1.97. As part of the rulemaking to revise 10 CFR 50.44 the Commission found that Category 3, as defined in RG 1.97, is an appropriate categorization for the hydrogen monitors because the monitors are required to diagnose the course of beyond design-basis accidents.

The regulatory requirements for the hydrogen monitors can be relaxed without degrading the plant emergency response. The emergency response, in this sense, refers to the methodologies used in ascertaining the condition of the reactor core, mitigating the consequences of an accident, assessing and projecting offsite releases of radioactivity, and establishing protective action recommendations to be communicated to offsite authorities. Classification of the hydrogen monitors as Category 3, and removal of the hydrogen monitors from TS will not prevent an accident management strategy through the use of the severe accident management guidelines (SAMGs), the emergency plan (EP), the emergency operating procedures (EOPs), and site survey monitoring that support modification of emergency plan protective action recommendations (PARs).

Therefore, the elimination of the hydrogen recombiner requirements and relaxation of the hydrogen monitor requirements, including removal of these requirements from TS, does not involve a significant increase in the probability or the consequences of any accident previously evaluated.

Criterion 2—The Proposed Change Does Not Create the Possibility of a New or Different Kind of Accident From Any Previously Evaluated

The elimination of the hydrogen recombiner requirements and relaxation of the hydrogen monitor requirements, including removal of these requirements from TS, will not result in any failure mode not previously analyzed. The hydrogen recombiner and hydrogen monitor equipment was intended to mitigate a design-basis hydrogen release. The hydrogen recombiner and hydrogen monitor equipment are not considered accident precursors, nor does their existence or elimination have any adverse impact on the pre-accident state of the reactor core or post accident confinement of radionuclides within the containment building.

Therefore, this change does not create the possibility of a new or different kind of accident from any previously evaluated.

Criterion 3—The Proposed Change Does Not Involve a Significant Reduction in the Margin of Safety

The elimination of the hydrogen recombiner requirements and relaxation of the hydrogen monitor requirements, including removal of these requirements from TS, in light of existing plant equipment, instrumentation, procedures, and programs that provide effective mitigation of and recovery from reactor accidents, results in a neutral impact to the margin of safety.

The installation of hydrogen recombiners and/or vent and purge systems required by 10 CFR 50.44(b)(3) was intended to address the limited quantity and rate of hydrogen generation that was postulated from a design-basis LOCA. The Commission has found that this hydrogen release is not risk-significant because the design-basis LOCA hydrogen release does not contribute to the conditional probability of a large release up to approximately 24 hours after the onset of core damage.

Category 3 hydrogen monitors are adequate to provide rapid assessment of current reactor core conditions and the direction of degradation while effectively responding to the event in order to mitigate the consequences of the accident. The intent of the requirements established as a result of the TMI Unit 2 accident can be adequately met without reliance on safety-related hydrogen monitors.

Therefore, this change does not involve a significant reduction in the margin of safety. Removal of hydrogen monitoring from TS will not result in a significant reduction in their functionality, reliability, and availability.

Based upon the reasoning presented above, the requested change does not involve a significant hazards consideration.

Attorney for licensee: James R. Curtiss, Esq., Winston & Strawn, 1400 L Street, NW., Washington, DC 20005-3502.

NRC Section Chief: Robert A. Gramm.

Pacific Gas and Electric Company, Docket Nos. 50-275 and 50-323, Diablo Canyon Nuclear Power Plant, Unit Nos. 1 and 2, San Luis Obispo County, California

Date of amendment requests: November 1, 2004.

Description of amendment requests: The requested change will delete Technical Specification (TS) 5.6.1, “Occupational Radiation Exposure Report,” and TS 5.6.4, “Monthly Operating Reports.”

The NRC staff issued a notice of availability of a model no significant hazards consideration (NSHC) determination for referencing in license amendment applications in the Federal Register on June 23, 2004 (69 FR 35067). The licensee affirmed the applicability of the model NSHC determination in its application dated November 1, 2004.

Basis for proposed no significant hazards consideration determination: As required by 10 CFR 50.91(a), an analysis of the issue of no significant hazards consideration is presented below:

1. Does the proposed change involve a significant increase in the probability or consequences of an accident previously evaluated?

Response: No.

The proposed change eliminates the Technical Specifications (TSs) reporting requirements to provide a monthly operating letter report of shutdown experience and operating statistics if the equivalent data is submitted using an industry electronic database. It also eliminates the TS reporting requirement for an annual occupational radiation exposure report, which provides information beyond that specified in NRC regulations. The proposed change involves no changes to plant systems or accident analyses. As such, the change is administrative in nature and does not affect initiators of analyzed events or assumed mitigation of accidents or transients. Therefore, the proposed change does not involve a significant increase in the probability or consequences of an accident previously evaluated.

2. Does the proposed change create the possibility of a new or different kind of accident from any accident previously evaluated?

Response: No.

The proposed change does not involve a physical alteration of the plant, add any new equipment, or require any existing equipment to be operated in a manner different from the present design. Therefore, the proposed change does not create the possibility of a new or different kind of accident from any accident previously evaluated.

3. Does the proposed change involve a significant reduction in a margin of safety?

Response: No.

This is an administrative change to reporting requirements of plant operating information and occupational radiation exposure data, and has no effect on plant equipment, operating practices or safety analyses assumptions. For these reasons, the proposed change does not involve a significant reduction in the margin of safety.

Based upon the reasoning presented above, the requested change does not involve a significant hazards consideration.

Attorney for licensee: Richard F. Locke, Esq., Pacific Gas and Electric Company, P.O. Box 7442, San Francisco, California 94120.

NRC Section Chief: Robert A. Gramm.

PPL Susquehanna, LLC, Docket Nos. 50-387 and 50-388, Susquehanna Steam Electric Station, Units 1 and 2, Luzerne County, Pennsylvania

Date of amendment request: September 22, 2004.

Description of amendment request: The proposed change allows entry into a mode or other specified condition in the applicability of a Technical Specification (TS), while in a condition statement and the associated required actions of the TS, provided the licensee performs a risk assessment and manages risk consistent with the program in place for complying with the requirements of Title 10 of the Code of Federal Regulations (10 CFR), part 50, § 50.65(a)(4). Limiting Condition for Operation (LCO) 3.0.4 exceptions in individual TSs would be eliminated, several notes or specific exceptions are revised to reflect the related changes to LCO 3.0.4, and Surveillance Requirement (SR) 3.0.4 is revised to reflect the LCO 3.0.4 allowance.

This change was proposed by the industry's Technical Specification Task Force (TSTF) and is designated TSTF-359. The NRC staff issued a notice of opportunity for comment in the Federal Register on August 2, 2002 (67 FR 50475), on possible amendments concerning TSTF-359, including a model safety evaluation and model no significant hazards consideration (NSHC) determination, using the consolidated line item improvement process. The NRC staff subsequently issued a notice of availability of the models for referencing in license amendment applications in the Federal Register on April 4, 2003 (68 FR 16579). The licensee affirmed the applicability of the following NSHC determination in its application dated September 22, 2004.

Basis for proposed no significant hazards consideration determination: As required by 10 CFR 50.91(a), an analysis of the issue of no significant hazards consideration is presented below:

Criterion 1—The Proposed Change Does Not Involve a Significant Increase in the Probability or Consequences of an Accident Previously Evaluated

The proposed change allows entry into a mode or other specified condition in the applicability of a TS, while in a TS condition statement and the associated required actions of the TS. Being in a TS condition and the associated required actions is not an initiator of any accident previously evaluated. Therefore, the probability of an accident previously evaluated is not significantly increased. The consequences of an accident while relying on required actions as allowed by proposed LCO 3.0.4, are no different than the consequences of an accident while entering and relying on the required actions while starting in a condition of applicability of the TS. Therefore, the consequences of an accident previously evaluated are not significantly affected by this change. The addition of a requirement to assess and manage the risk introduced by this change will further minimize possible concerns. Therefore, this change does not involve a significant increase in the probability or consequences of an accident previously evaluated.

Criterion 2—The Proposed Change Does Not Create the Possibility of a New or Different Kind of Accident From Any Previously Evaluated

The proposed change does not involve a physical alteration of the plant (no new or different type of equipment will be installed). Entering into a mode or other specified condition in the applicability of a TS, while in a TS condition statement and the associated required actions of the TS, will not introduce new failure modes or effects and will not, in the absence of other unrelated failures, lead to an accident whose consequences exceed the consequences of accidents previously evaluated. The addition of a requirement to assess and manage the risk introduced by this change will further minimize possible concerns. Thus, this change does not create the possibility of a new or different kind of accident from an accident previously evaluated.

Criterion 3—The Proposed Change Does Not Involve a Significant Reduction in a Margin of Safety

The proposed change allows entry into a mode or other specified condition in the applicability of a TS, while in a TS condition statement and the associated required actions of the TS. The TS allow operation of the plant without the full complement of equipment through the conditions for not meeting the TS LCO. The risk associated with this allowance is managed by the imposition of required actions that must be performed within the prescribed completion times. The net effect of being in a TS condition on the margin of safety is not considered significant. The proposed change does not alter the required actions or completion times of the TS. The proposed change allows TS conditions to be entered, and the associated required actions and completion times to be used in new circumstances. This use is predicated upon the licensee's performance of a risk assessment and the management of plant risk. The change also eliminates current allowances for utilizing required actions and completion times in similar circumstances, without assessing and managing risk. The net change to the margin of safety is insignificant. Therefore, this change does not involve a significant reduction in a margin of safety.

The NRC staff proposes to determine that the amendment request involves no significant hazards consideration.

Attorney for licensee: Bryan A. Snapp, Esquire, Assoc. General Counsel, PPL Services Corporation, 2 North Ninth St., GENTW3, Allentown, PA 18101-1179.

NRC Section Chief: Richard J. Laufer.

Southern California Edison Company, et al., Docket Nos. 50-361 and 50-362, San Onofre Nuclear Generating Station, Units 2 and 3, San Diego County, California

Date of amendment requests: December 10, 2004.

Description of amendment requests: The proposed amendment will delete the requirements from the Technical Specifications (TS) to maintain hydrogen recombiners and hydrogen monitors. Licensees were generally required to implement upgrades as described in NUREG-0737, “Clarification of TMI [Three Mile Island] Action Plan Requirements,” and Regulatory Guide (RG) 1.97, “Instrumentation for Light-Water-Cooled Nuclear Power Plants to Assess Plant and Environs Conditions During and Following an Accident.” Implementation of these upgrades was an outcome of the lessons learned from the accident that occurred at TMI Unit 2. Requirements related to combustible gas control were imposed by Order for many facilities and were added to or included in the TS for nuclear power reactors currently licensed to operate. The revised § 50.44 of Title 10 of the Code of Federal Regulations (10 CFR), “Standards for Combustible Gas Control System in Light-Water-Cooled Power Reactors,” eliminated the requirements for hydrogen recombiners and relaxed safety classifications and licensee commitments to certain design and qualification criteria for hydrogen and oxygen monitors.

The proposed license amendment will revise TS 3.3.11, “Post Accident Monitoring Instrumentation (PAMI),” to delete the Note in Condition C. Also in TS 3.3.11, Condition D will be deleted. In TS Table 3.3.11-1, Item 10, “Containment Hydrogen Monitors,” is deleted. Other TS changes included in this application are limited to renumbering and formatting changes that resulted directly from the deletion of the above requirements related to hydrogen monitors. The changes to TS requirements result in changes to various TS Bases sections. The TS Bases changes will be submitted with a future update in accordance with TS 5.4.4, “Technical Specifications (TS) Bases Control.”

The NRC staff issued a notice of availability of a model no significant hazards consideration (NSHC) determination for referencing in license amendment applications in the Federal Register on September 25, 2003 (68 FR 55416). The licensee affirmed the applicability of the model NSHC determination in its application dated December 10, 2004.

Basis for proposed no significant hazards consideration determination: As required by 10 CFR 50.91(a), an analysis of the issue of no significant hazards consideration is presented below:

Criterion 1—The Proposed Change Does Not Involve a Significant Increase in the Probability or Consequences of an Accident Previously Evaluated

The revised 10 CFR 50.44 no longer defines a design-basis loss-of-coolant accident (LOCA) hydrogen release, and eliminates requirements for hydrogen control systems to mitigate such a release. The installation of hydrogen recombiners and/or vent and purge systems required by 10 CFR 50.44(b)(3) was intended to address the limited quantity and rate of hydrogen generation that was postulated from a design-basis LOCA. The Commission has found that this hydrogen release is not risk-significant because the design-basis LOCA hydrogen release does not contribute to the conditional probability of a large release up to approximately 24 hours after the onset of core damage. In addition, these systems were ineffective at mitigating hydrogen releases from risk-significant accident sequences that could threaten containment integrity.

With the elimination of the design-basis LOCA hydrogen release, hydrogen monitors are no longer required to mitigate design-basis accidents and, therefore, the hydrogen monitors do not meet the definition of a safety-related component as defined in 10 CFR 50.2. RG 1.97 Category 1, is intended for key variables that most directly indicate the accomplishment of a safety function for design-basis accident events. The hydrogen monitors no longer meet the definition of Category 1 in RG 1.97. As part of the rulemaking to revise 10 CFR 50.44 the Commission found that Category 3, as defined in RG 1.97, is an appropriate categorization for the hydrogen monitors because the monitors are required to diagnose the course of beyond design-basis accidents.

The regulatory requirements for the hydrogen monitors can be relaxed without degrading the plant emergency response. The emergency response, in this sense, refers to the methodologies used in ascertaining the condition of the reactor core, mitigating the consequences of an accident, assessing and projecting offsite releases of radioactivity, and establishing protective action recommendations to be communicated to offsite authorities. Classification of the hydrogen monitors as Category 3, and removal of the hydrogen monitors from TS will not prevent an accident management strategy through the use of the SAMGs [severe accident management guidelines], the emergency plan (EP), the emergency operating procedures (EOP), and site survey monitoring that support modification of emergency plan protective action recommendations (PARs).

Therefore, the elimination of the hydrogen recombiner requirements and relaxation of the hydrogen monitor requirements, including removal of these requirements from TS, does not involve a significant increase in the probability or the consequences of any accident previously evaluated.

Criterion 2—The Proposed Change Does Not Create the Possibility of a New or Different Kind of Accident From Any Previously Evaluated

The elimination of the hydrogen recombiner requirements and relaxation of the hydrogen monitor requirements, including removal of these requirements from TS, will not result in any failure mode not previously analyzed. The hydrogen recombiner and hydrogen monitor equipment was intended to mitigate a design-basis hydrogen release. The hydrogen recombiner and hydrogen monitor equipment are not considered accident precursors, nor does their existence or elimination have any adverse impact on the pre-accident state of the reactor core or post accident confinement of radionuclides within the containment building.

Therefore, this change does not create the possibility of a new or different kind of accident from any previously evaluated.

Criterion 3—The Proposed Change Does Not Involve a Significant Reduction in the Margin of Safety

The elimination of the hydrogen recombiner requirements and relaxation of the hydrogen monitor requirements, including removal of these requirements from TS, in light of existing plant equipment, instrumentation, procedures, and programs that provide effective mitigation of and recovery from reactor accidents, results in a neutral impact to the margin of safety.

The installation of hydrogen recombiners and/or vent and purge systems required by 10 CFR 50.44(b)(3) was intended to address the limited quantity and rate of hydrogen generation that was postulated from a design-basis LOCA. The Commission has found that this hydrogen release is not risk-significant because the design-basis LOCA hydrogen release does not contribute to the conditional probability of a large release up to approximately 24 hours after the onset of core damage.

Category 3 hydrogen monitors are adequate to provide rapid assessment of current reactor core conditions and the direction of degradation while effectively responding to the event in order to mitigate the consequences of the accident. The intent of the requirements established as a result of the TMI, Unit 2 accident can be adequately met without reliance on safety-related hydrogen monitors.

Therefore, this change does not involve a significant reduction in the margin of safety. Removal of hydrogen monitoring from TS will not result in a significant reduction in their functionality, reliability, and availability.

Based upon the reasoning presented above and the previous discussion of the amendment request, the requested change does not involve a significant hazards consideration.

Attorney for licensee: Douglas K. Porter, Esquire, Southern California Edison Company, 2244 Walnut Grove Avenue, Rosemead, California 91770.

NRC Section Chief: Robert A. Gramm.

Southern California Edison Company, et al., Docket Nos. 50-361 and 50-362, San Onofre Nuclear Generating Station, Units 2 and 3, San Diego County, California

Date of amendment requests: December 17, 2004.

Description of amendment requests: The proposed amendments would revise Technical Specification (TS) 3.8.1, “AC Sources—Operating,” TS 3.8.4, “DC Sources—Operating,” TS 3.8.5, “DC Sources—Shutdown,” TS 3.8.6, “Battery Cell Parameters,” TS 3.8.7, “Inverters—Operating,” and TS 3.8.9, “Distribution Systems—Operating.” This change will also add a new Battery Monitoring and Maintenance Program, section 5.5.2.16. The proposed change will provide operational flexibility to credit DC electrical subsystem design upgrades that are in progress. These upgrades will provide increased capacity batteries, additional battery chargers, and the means to cross-connect DC subsystems while meeting all design battery loading requirements. With these modifications in place, it will be feasible to perform routine surveillance as well as battery replacements online.

Basis for proposed no significant hazards consideration determination: As required by 10 CFR 50.91(a), the licensee has provided its analysis of the issue of no significant hazards consideration, which is presented below:

1. Will operation of the facility in accordance with this proposed change involve a significant increase in the probability or consequences of an accident previously evaluated?

Response: No.

The proposed changes to Technical Specifications (TS) 3.8.4 and 3.8.6 would allow extension of the Completion Time (CT) for inoperable Direct Current (DC) distribution subsystems to manually cross-connect DC distribution buses of the same safety train of the operating unit for a period of 30 days. Currently the CT only allows for 2 hours to ascertain the source of the problem before a controlled shutdown is initiated. Loss of a DC subsystem is not an initiator of an event. However, complete loss of a Train A (subsystems A and C) or Train B (subsystems B and D) DC system would initiate a plant transient/plant trip.

Operation of a DC Train in cross-connected configuration does not affect the quality of DC control and motive power to any system. Therefore, allowing the cross-connect of DC distribution systems does not significantly increase the probability of an accident previously evaluated in Chapter 15 of the Updated Final Safety Analysis Report (UFSAR).

The above conclusion is supported by Probabilistic Risk Analysis (PRA) evaluation which encompasses all accidents, including UFSAR Chapter 15.

Modification to the Frequency for Surveillance Requirement (SR) 3.8.6.1 is consistent with the recommendations of TSTF 360 Rev. 1 and IEEE 450-2002, and similarly does not impact safety considerations.

Further changes are made of an editorial nature or provide clarification only. For example, discussions regarding electrical ‘Trains' and ‘Subsystems' will be in more conventional terminology. Limiting Condition for Operations (LCOs) affected by editorial changes include 3.8.1, 3.8.4, 3.8.5, 3.8.6, 3.8.7, and 3.8.9.

Enhancements from TSTF-360, Rev. 1 and IEEE 450-2002 have been incorporated into LCOs 3.8.4 and 3.8.6. TSTF-360, Rev. 1 was previously approved by the NRC, and IEEE 450-2002 includes industry-generic recommendations.

The changes being proposed do not affect assumptions contained in other safety analyses or the physical design of the plant other than the upgrades of the electrical systems described in this change, nor do they affect other Technical Specifications that preserve safety analysis assumptions.

Therefore, operation of the facility in accordance with the proposed amendment would not involve a significant increase in the probability or consequences of an accident previously analyzed.

2. Will operation of the facility in accordance with this proposed change create the possibility of new or different kind of accident from any accident previously evaluated?

Response: No.

The proposed change to Technical Specifications 3.8.4 will enable the cross-tie of subsystems. New equipment, swing battery chargers, distribution panels, and associated protective devices are added to increase overall DC system reliability. Both administrative and mechanical controls will be in place to ensure the design and operation of the DC distribution systems continue to perform to applicable design standards. During cross connecting of subsystem buses, two batteries would be paralleled for a short duration. An electrical fault during that duration could exceed the interrupting duties of the protective devices. This is standard industry practice during transfer of power sources and is considered to be an acceptable minimal risk. For example, the design of the 1E 4kV power system is based on this practice as well. Therefore, the addition of new equipment does not create the possibility of a new or different kind of accident from any previously evaluated.

Enhancements from TSTF-360, Rev. 1 and IEEE 450-2002 have been incorporated into LCOs 3.8.4 and 3.8.6. TSTF-360, Rev. 1 is previously approved and IEEE 450-2002 includes industry-generic recommendations. Enhancements, including surveillance intervals or required completion times, will not create the possibility of a new or different kind of accident from any previously evaluated.

LCOs 3.8.1, 3.8.4, 3.8.5, 3.8.6, 3.8.7, and 3.8.9 are revised to incorporate editorial changes. Since these changes do not affect plant design but enhance clarity, these modifications do not create the possibility of a new or different kind of accident from any previously evaluated.

Therefore, operation of the facility in accordance with this proposed change will not create the possibility of new or different kind of accident from any accident previously evaluated.

3. Will operation of the facility in accordance with this proposed change involve a significant reduction in a margin of safety?

Response: No.

The proposed change does not alter the bases for assurance that safety-related activities are performed correctly or the basis for any Technical Specification that is related to the establishment of or maintenance of a safety margin. Specifically, battery sizing calculations continue to show that new upgraded capacity batteries will meet the most limiting load profile that includes margin for growth, with aging and temperature correction. Battery modified performance discharge testing will demonstrate on an on-going basis that battery capacity will be greater than or equal to 80% of original design requirements at all times during service life and that the service profiles will be met as is currently required by Surveillance Requirements 3.8.4.7 and 3.8.4.8. The addition of the DC cross-tie capability proposed for LCO 3.8.4 will ensure appropriate operations of the DC buses during maintenance activities such as battery testing or replacement. Enhancements from TSTF-360, Rev. 1 and IEEE 450-2002 have been incorporated into LCOs 3.8.4 and 3.8.6. TSTF-360, Rev. 1 is previously approved and IEEE 450-2002 includes industry-generic recommendations. Enhancements including surveillance intervals or required completion times will not involve a significant reduction in a margin of safety.

Also, LCOs 3.8.1, 3.8.4, 3.8.5, 3.8.6, 3.8.7, and 3.8.9 are revised to incorporate editorial changes. Since these changes do not affect plant design or operations but should enhance clarity, these modifications would not involve a significant reduction in margin of safety.

Therefore, operation of the facility in accordance with the proposed amendment would not involve a significant reduction in a margin of safety.

The NRC staff has reviewed the licensee's analysis and, based on this review, it appears that the three standards of 10 CFR 50.92(c) are satisfied. Therefore, the NRC staff proposes to determine that the amendment requests involve no significant hazards consideration.

Attorney for licensee: Douglas K. Porter, Esquire, Southern California Edison Company, 2244 Walnut Grove Avenue, Rosemead, California 91770.

NRC Section Chief: Robert A. Gramm.

Southern Nuclear Operating Company, Inc., et al., Docket Nos. 50-424 and 50-425, Vogtle Electric Generating Plant, Units 1 and 2, Burke County, Georgia

Date of amendment request: October 26, 2004.

Description of amendment request: The proposed change allows entry into a mode or other specified condition in the applicability of a Technical Specification (TS), while in a condition statement and the associated required actions of the TS, provided the licensee performs a risk assessment and manages risk consistent with the program in place for complying with the requirements of title 10 of the Code of Federal Regulations (10 CFR) part 50, § 50.65(a)(4). Limiting Condition for Operation (LCO) 3.0.4 exceptions in individual TSs would be eliminated, several notes or specific exceptions are revised to reflect the related changes to LCO 3.0.4, and Surveillance Requirement 3.0.4 is revised to reflect the LCO 3.0.4 allowance.

This change was proposed by the industry's Technical Specification Task Force (TSTF) and is designated TSTF-359. The NRC staff issued a notice of opportunity for comment in the Federal Register on August 2, 2002 (67 FR 50475), on possible amendments concerning TSTF-359, including a model safety evaluation and model no significant hazards consideration (NSHC) determination, using the consolidated line item improvement process. The NRC staff subsequently issued a notice of availability of the models for referencing in license amendment applications in the Federal Register on April 4, 2003 (68 FR 16579). The licensee affirmed the applicability of the following NSHC determination in its application dated October 26, 2004.

Basis for proposed no significant hazards consideration determination: As required by 10 CFR 50.91(a), an analysis of the issue of no significant hazards consideration is presented below:

Criterion 1—The Proposed Change Does Not Involve a Significant Increase in the Probability or Consequences of an Accident Previously Evaluated

The proposed change allows entry into a mode or other specified condition in the applicability of a TS, while in a TS condition statement and the associated required actions of the TS. Being in a TS condition and the associated required actions is not an initiator of any accident previously evaluated. Therefore, the probability of an accident previously evaluated is not significantly increased. The consequences of an accident while relying on required actions as allowed by proposed LCO 3.0.4, are no different than the consequences of an accident while entering and relying on the required actions while starting in a condition of applicability of the TS. Therefore, the consequences of an accident previously evaluated are not significantly affected by this change. The addition of a requirement to assess and manage the risk introduced by this change will further minimize possible concerns. Therefore, this change does not involve a significant increase in the probability or consequences of an accident previously evaluated.

Criterion 2—The Proposed Change Does Not Create the Possibility of a New or Different Kind of Accident From Any Previously Evaluated

The proposed change does not involve a physical alteration of the plant (no new or different type of equipment will be installed). Entering into a mode or other specified condition in the applicability of a TS, while in a TS condition statement and the associated required actions of the TS, will not introduce new failure modes or effects and will not, in the absence of other unrelated failures, lead to an accident whose consequences exceed the consequences of accidents previously evaluated. The addition of a requirement to assess and manage the risk introduced by this change will further minimize possible concerns. Thus, this change does not create the possibility of a new or different kind of accident from an accident previously evaluated.

Criterion 3—The Proposed Change Does Not Involve a Significant Reduction in a Margin of Safety

The proposed change allows entry into a mode or other specified condition in the applicability of a TS, while in a TS condition statement and the associated required actions of the TS. The TS allow operation of the plant without the full complement of equipment through the conditions for not meeting the TS LCO. The risk associated with this allowance is managed by the imposition of required actions that must be performed within the prescribed completion times. The net effect of being in a TS condition on the margin of safety is not considered significant. The proposed change does not alter the required actions or completion times of the TS. The proposed change allows TS conditions to be entered, and the associated required actions and completion times to be used in new circumstances. This use is predicated upon the licensee's performance of a risk assessment and the management of plant risk. The change also eliminates current allowances for utilizing required actions and completion times in similar circumstances, without assessing and managing risk. The net change to the margin of safety is insignificant. Therefore, this change does not involve a significant reduction in a margin of safety.

The NRC staff proposes to determine that the amendment request involves no significant hazards consideration.

Attorney for licensee: Mr. Arthur H. Domby, Troutman Sanders, NationsBank Plaza, Suite 5200, 600 Peachtree Street, NE., Atlanta, Georgia 30308-2216.

NRC Section Chief: John A. Nakoski.

Tennessee Valley Authority, Docket No. 50-259, Browns Ferry Nuclear Plant, Unit 1, Limestone County, Alabama

Date of amendment request: December 6, 2004 (TS 426).

Description of amendment request: The proposed amendment would revise the current Unit 1 Diesel Generators (DG) Allowed Outage Time (AOT) in the Technical Specifications (TS).

Basis for proposed no significant hazards consideration determination: As required by 10 CFR 50.91(a), the licensee has provided its analysis of the issue of no significant hazards consideration, which is presented below:

1. Does the proposed amendment involve a significant increase in the probability or consequences of an accident previously evaluated?

No. The DGs are designed as backup AC power sources in the event of loss of offsite power. The proposed DG TS AOT does not change the conditions, operating configurations, or minimum amount of operating equipment assumed in the safety analysis for accident mitigation. No changes are proposed in the manner in which the DGs provide plant protection or which create new modes of plant operation. In addition, a PSA [probabilistic safety assessment] evaluation concluded that the risk contribution of the DG TS AOT extension is non-risk significant. Therefore, the proposed amendment does not involve a significant increase in the probability or consequences of an accident previously evaluated.

2. Does the proposed amendment create the possibility of a new or different kind of accident from any accident previously evaluated?

No. The proposed amendment does not introduce new equipment, which could create a new or different kind of accident. No new external threats, release pathways, or equipment failure modes are created. Therefore, the implementation of the proposed amendment will not create a possibility for an accident of a new or different type than those previously evaluated.

3. Does the proposed amendment involve a significant reduction in a margin of safety?

No. BFN's emergency AC system is designed with sufficient redundancy such that a DG may be removed from service for maintenance or testing. The remaining DGs are capable of carrying sufficient electrical loads to satisfy the UFSAR [Updated Final Safety Analysis Report] requirements for accident mitigation or unit safe shutdown.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Section Chief: Michael L. Marshall, Jr.

Tennessee Valley Authority, Docket No. 50-259, Browns Ferry Nuclear Plant (BFN), Unit 1, Limestone County, Alabama

Date of amendment request: December 6, 2004 (TS 428).

Description of amendment request: The proposed amendment would revise the reactor vessel Pressure-Temperature (P-T) curves depicted in the Technical Specification (TS) Figure 3.4.9-1 and adds a new TS Figure 3.4.9-2.

Basis for proposed no significant hazards consideration determination: As required by 10 CFR 50.91(a), the licensee has provided its analysis of the issue of no significant hazards consideration, which is presented below:

1. Does the proposed change involve a significant increase in the probability or consequences of an accident previously evaluated?

No. The proposed changes deal exclusively with the reactor vessel P-T curves, which define the permissible regions for operation and testing. Failure of the reactor vessel is not considered as a design basis accident. Through the design conservatisms used to calculate the P-T curves, reactor vessel failure has a low probability of occurrence and is not considered in the safety analyses. The proposed changes adjust the reference temperature for the limiting material to account for irradiation effects and provide the same level of protection as previously evaluated and approved.

The adjusted reference temperature calculations were performed in accordance with the requirements of 10 CFR 50 Appendix G using the guidance contained in Regulatory Guide 1.190, “Calculational and Dosimetry Methods for Determining Pressure Vessel Neutron Fluence,” to reflect use of the operating limits to no more than 16 Effective Full Power Years (EFPY). These changes do not alter or prevent the operation of equipment required to mitigate any accident analyzed in the BFN Final Safety Analysis Report.

Therefore, the proposed change does not involve a significant increase in the probability or consequences of an accident previously evaluated.

2. Does the proposed change create the possibility of a new or different kind of accident from any accident previously evaluated?

No. The proposed changes to the reactor vessel P-T curves do not involve a modification to plant equipment. No new failure modes are introduced. There is no effect on the function of any plant system, and no new system interactions are introduced by this change. Therefore, the proposed change does not create the possibility of a new or different kind of accident from any previously evaluated.

3. Does the proposed change involve a significant reduction in a margin of safety?

No. The proposed curves conform to the guidance contained in Regulatory Guide (RG) 1.190, “Calculational and Dosimetry Methods for Determining Pressure Vessel Neutron Fluence,” and maintain the safety margins specified in 10 CFR 50 Appendix G. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Section Chief: Michael L. Marshall, Jr.

Tennessee Valley Authority (TVA), Docket No. 50-328, Sequoyah Nuclear Plant, Unit 2, Hamilton County, Tennessee

Date of amendment request: December 2, 2004.

Description of amendment request: The proposed amendment would revise Technical Specification (TS) 3/4.4.5, “Steam Generators,” including associated Bases 3/4.4.5 to change the inspection scope of steam generator tubing in the Westinghouse Electric Company explosive tube expansion region below the top of the tubesheet. Additionally, the proposed TS change removes the axial primary water stress corrosion cracking at dented tube support plate alternate repair criteria and the associated note for the exclusion made for Unit 2 Cycle 12 operation only and changes the current definition of plugging limit to exclude possible indications below the W* distance.

Basis for proposed no significant hazards consideration determination: As required by 10 CFR 50.91(a), the licensee has provided its analysis of the issue of no significant hazards consideration, which is presented below:

1. Does the proposed change involve a significant increase in the probability or consequences of an accident previously evaluated?

Response: No.

Of the various accidents previously evaluated, the proposed changes only affect the steam generator tube rupture (SGTR) event evaluation and the postulated steam line break (SLB) accident evaluation. Loss-of-coolant accident (LOCA) conditions cause a compressive axial load to act on the tube. Therefore, since the LOCA tends to force the tube into the tubesheet rather than pull it out, it is not a factor in this amendment request. Another faulted load consideration is a safe shutdown earthquake (SSE); however, the seismic analysis of Westinghouse 51 series SGs has shown that axial loading of the tubes is negligible during an SSE.

TVA's amendment request takes credit for how the tubesheet enhances the tube integrity in the Westinghouse Electric Company explosive tube expansion (WEXTEX) region by precluding tube deformation beyond its initial expanded outside diameter. For the SGTR and SLB events, the required structural margins of the SG tubes will be maintained due to the presence of the tubesheet. Tube rupture is precluded for axial cracks in the WEXTEX region due to the constraint provided by the tubesheet. Therefore, the normal operating 3ΔP margin and the postulated accident 1.43ΔP margin against burst are maintained.

The W* length supplies the necessary resistive force to preclude pullout loads under both normal operating and accident conditions. The contact pressure results from the WEXTEX expansion process, thermal expansion mismatch between the tube and tubesheet, and from the differential pressure between the primary and secondary side. Therefore, the proposed change results in no significant increase in the probability or the occurrence of an SGTR or SLB accident.

The proposed changes do not affect other systems, structures, components or operational features. Therefore, based on the above evaluation, the proposed changes do not involve a significant increase in the probability of an accident previously evaluated.

The consequences of an SGTR event are primarily affected by the primary-to-secondary flow rate and the time duration of the primary-to-secondary flow during the event. Primary-to-secondary flow rate through a postulated ruptured tube (i.e., complete severance of a single SG tube) is not affected by the proposed change since the flow rate is based on the inside diameter of a SG tube and the pressure differential. TVA's amendment request does not change either of these. The duration of primary-to-secondary leakage is based on the time required for an operator to determine that a SGTR has occurred, the time to identify and isolate the faulty SG, and ensure termination of radioactive release to the atmosphere from the faulty SG. TVA's amendment request does not affect the duration of the primary-to-secondary leakage because it does not change the control room indicators with which an operator would determine that an SGTR has occurred. The consequences of an SGTR are secondarily affected by primary-to-secondary leakage, which could occur due to axial cracks remaining in service in the WEXTEX region in a non-faulted SG. During a SGTR, the primary-to-secondary differential pressure is less than or equal to the normal operating differential pressure; therefore, the primary-to-secondary leakage due to axial cracks in the WEXTEX region of a non-faulted SG during a SGTR would be less than or equal to the primary-to-secondary leakage experienced during normal operation. Primary-to-secondary leakage is considered in the calculation determining the consequences of a SGTR and the value is bounding.

The postulated SLB has the greatest primary-to-secondary pressure differential, and therefore could experience the greatest primary-to-secondary leakage. TVA's amendment request requires the aggregate leakage, (i.e., the combined leakage for the tubes with service induced degradation inside the tubesheet) plus the combined leakage developed by other ARC [alternate repair criteria], to remain below the maximum allowable SLB primary-to-secondary leakage rate limit such that the doses are maintained to less than a fraction of the 10 CFR 100 limits and also less than the general design criteria (GDC)—19 limits.

TVA's proposed change also removes the existing axial PWSCC [primary water stress corrosion cracking] at dented tube support plate ARC and removes the exclusion made for Unit 2 Cycle 12 operation only from the TS. This ARC was not used on Unit 2 and was only intended through the Unit 2 Cycle 12 operation. Therefore, this change is inherently more conservative.

Therefore, the proposed change does not involve a significant increase in the probability or consequences of an accident previously evaluated.

2. Does the proposed change create the possibility of a new or different kind of accident from any accident previously evaluated?

Response: No.

TVA's amendment request does not introduce any physical changes to the Sequoyah Unit 2 SGs. TVA's amendment request takes credit for how the tubesheet enhances the SG tube integrity in the WEXTEX region by precluding tube deformation beyond its initial expanded outside. Removal of the existing PWSCC axial at dented tube support plate ARC incorporates the more conservative TS limit for SG tube plugging. A failure to meet SG tube integrity results in an SGTR. Because degradation detected within the WEXTEX region are required to be plugged, it is highly unlikely that a W* tube would fail as a result of a circumferential defect. Therefore a tube severance, which would strike neighboring tubes and create a multiple tube rupture, is not credible.

The proposed change does not introduce any new equipment or any change to existing equipment. No new effects on existing equipment are created.

Based on the above evaluation, the proposed changes do not create the possibility of a new or different kind of accident from any accident previously evaluated.

Therefore, the proposed change does not create the possibility of a new or different kind of accident from any previously evaluated.

3. Does the proposed change involve a significant reduction in a margin of safety?

Response: No.

The amendment request maintains the structural margins of the SG tubes for both normal and accident conditions that are required by Regulatory Guide 1.121.

For cracking located within the tubesheet, tube burst is precluded due to the presence of the tubesheet. WCAP-14797 defines a length, W*, of degradation free expanded tubing that provides the necessary resistance to tube pullout due to the pressure induced forces (with applicable safety factor applied). Application of the W* methodology will preclude unacceptable primary-to-secondary leakage during all plant conditions. The methodology for determining leakage provides for large margins between calculated and actual leakage values in the W* criteria. TVA's proposed change to remove PWSCC ARC from the TS does not compromise structural integrity or leakage integrity of SG tubes.

Based on the above, it is concluded that the proposed changes do not result in a significant reduction of margin with respect to plant safety as defined in the safety analysis report or TSs.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Section Chief: Michael L. Marshall, Jr.

Tennessee Valley Authority, Docket Nos. 50-327 and 50-328, Sequoyah Nuclear Plant, Units 1 and 2, Hamilton County, Tennessee

Date of amendment request: September 30, 2004.

Description of amendment request: The proposed amendment would revise the technical specifications to relocate the requirements for the emergency diesel generator start loss of power instrumentation and associated actions in the engineering safety features tables to a new limiting conditions for operation (LCO). In addition, an upper allowable value has been added to the voltage sensors for loss of voltage and degraded voltage consistent with Technical Specification Task Force (TSTF) Item TSTF-365 along with a lower allowable value limit for the degraded voltage diesel generator start and load shed timer. The auxiliary feedwater loss of power start setpoints and allowable values have been relocated to this new LCO.

Basis for proposed no significant hazards consideration determination: As required by 10 CFR 50.91(a), the licensee has provided its analysis of the issue of no significant hazards consideration, which is presented below:

1. Does the proposed change involve a significant increase in the probability or consequences of an accident previously evaluated?

Response: No.

The relocation and enhancement of the loss of power functions to a new LCO does not alter the intended functions of this feature or physically alter these systems. Changes to Avs [allowable values] have been evaluated in accordance with TVA [Tennessee Valley Authority] setpoint methodology and have been verified to acceptably protect the associated safety limits. Format changes provide a clearer representation of the requirements and provide more consistency with the standard TSs [Technical Specifications] in NUREG-1431. The EDG [emergency diesel generator] and AFW [auxiliary feedwater] start functions provided by this instrumentation are utilized for the mitigation of accident conditions and are not considered to be a potential source for accident generation. Additionally, these start functions are enhanced by the addition of an upper allowable value limit such that the accident mitigation functions are not challenged unnecessarily. This further assures the ability to mitigate accidents and maintain acceptable offsite dose limits. These changes continue to support or improve the required safety functions; therefore, the proposed change does not involve a significant increase in the probability or consequences of an accident previously evaluated.

2. Does the proposed change create the possibility of a new or different kind of accident from any accident previously evaluated?

Response: No.

The proposed changes for the loss of power instrumentation will not alter plant processes, components, or operating practices. The function to start the EDGs and AFW pumps on a loss of voltage or degraded voltage to the shutdown boards will not be altered by the proposed change. Additionally, the EDGs and AFW system is not considered to be a source for the generation of postulated accidents. Therefore, the proposed change does not create the possibility of a new or different kind of accident from any previously evaluated.

3. Does the proposed change involve a significant reduction in a margin of safety?

Response: No.

The proposed changes do not alter any plant settings or functions that are utilized to mitigate accident conditions. The enhanced allowable values for the voltage sensors help to prevent unnecessary actuation of mitigation systems to ensure their ability to respond to actual accident conditions. The parameters that ensure the required margin of safety will be maintained with the proposed changes or improved. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Section Chief: Michael L. Marshall, Jr.

Tennessee Valley Authority, Docket Nos. 50-327 and 50-328, Sequoyah Nuclear Plant, Units 1 and 2, Hamilton County, Tennessee

Date of amendment request: December 2, 2004.

Description of amendment request: The proposed change allows entry into a mode or other specified condition in the applicability of a Technical Specification (TS), while in a condition statement and the associated required actions of the TS, provided the licensee performs a risk assessment and manages risk consistent with the program in place for complying with the requirements of title 10 of the Code of Federal Regulations (10 CFR), part 50, § 50.65(a)(4). Limiting Condition for Operation (LCO) 3.0.4 exceptions in individual TSs would be eliminated, several notes or specific exceptions are revised to reflect the related changes to LCO 3.0.4, and Surveillance Requirement (SR) 3.0.4 is revised to reflect the LCO 3.0.4 allowance.

This change was proposed by the industry's Technical Specification Task Force (TSTF) and is designated TSTF-359. The NRC staff issued a notice of opportunity for comment in the Federal Register on August 2, 2002 (67 FR 50475), on possible amendments concerning TSTF-359, including a model safety evaluation and model no significant hazards consideration (NSHC) determination, using the consolidated line item improvement process. The NRC staff subsequently issued a notice of availability of the models for referencing in license amendment applications in the Federal Register on April 4, 2003 (68 FR 16579). The licensee affirmed the applicability of the following NSHC determination in its application dated December 2, 2004.

Basis for proposed no significant hazards consideration determination: As required by 10 CFR 50.91(a), an analysis of the issue of no significant hazards consideration is presented below:

Criterion 1—The Proposed Change Does Not Involve a Significant Increase in the Probability or Consequences of an Accident Previously Evaluated

The proposed change allows entry into a mode or other specified condition in the applicability of a TS, while in a TS condition statement and the associated required actions of the TS. Being in a TS condition and the associated required actions is not an initiator of any accident previously evaluated. Therefore, the probability of an accident previously evaluated is not significantly increased. The consequences of an accident while relying on required actions as allowed by proposed LCO 3.0.4, are no different than the consequences of an accident while entering and relying on the required actions while starting in a condition of applicability of the TS. Therefore, the consequences of an accident previously evaluated are not significantly affected by this change. The addition of a requirement to assess and manage the risk introduced by this change will further minimize possible concerns. Therefore, this change does not involve a significant increase in the probability or consequences of an accident previously evaluated.

Criterion 2—The Proposed Change Does Not Create the Possibility of a New or Different Kind of Accident From Any Previously Evaluated

The proposed change does not involve a physical alteration of the plant (no new or different type of equipment will be installed). Entering into a mode or other specified condition in the applicability of a TS, while in a TS condition statement and the associated required actions of the TS, will not introduce new failure modes or effects and will not, in the absence of other unrelated failures, lead to an accident whose consequences exceed the consequences of accidents previously evaluated. The addition of a requirement to assess and manage the risk introduced by this change will further minimize possible concerns. Thus, this change does not create the possibility of a new or different kind of accident from an accident previously evaluated.

Criterion 3—The Proposed Change Does Not Involve a Significant Reduction in a Margin of Safety

The proposed change allows entry into a mode or other specified condition in the applicability of a TS, while in a TS condition statement and the associated required actions of the TS. The TS allow operation of the plant without the full complement of equipment through the conditions for not meeting the TS LCO. The risk associated with this allowance is managed by the imposition of required actions that must be performed within the prescribed completion times. The net effect of being in a TS condition on the margin of safety is not considered significant. The proposed change does not alter the required actions or completion times of the TS. The proposed change allows TS conditions to be entered, and the associated required actions and completion times to be used in new circumstances. This use is predicated upon the licensee's performance of a risk assessment and the management of plant risk. The change also eliminates current allowances for utilizing required actions and completion times in similar circumstances, without assessing and managing risk. The net change to the margin of safety is insignificant. Therefore, this change does not involve a significant reduction in a margin of safety.

The NRC staff proposes to determine that the amendment request involves no significant hazards consideration.

Attorney for licensee: General Counsel, Tennessee Valley Authority, 400 West Summit Hill Drive, ET 11A, Knoxville, Tennessee 37902.

NRC Section Chief: Michael L. Marshall, Jr.

Tennessee Valley Authority, Docket No. 50-390, Watts Bar Nuclear Plant, Unit 1, Rhea County, Tennessee

Date of amendment request: September 15, 2004.

Description of amendment request: The proposed change allows entry into a mode or other specified condition in the applicability of a Technical Specification (TS), while in a condition statement and the associated required actions of the TS, provided the licensee performs a risk assessment and manages risk consistent with the program in place for complying with the requirements of title 10 of the Code of Federal Regulations (10 CFR), part 50, § 50.65(a)(4). Limiting Condition for Operation (LCO) 3.0.4 exceptions in individual TSs would be eliminated, several notes or specific exceptions are revised to reflect the related changes to LCO 3.0.4, and Surveillance Requirement (SR) 3.0.4 is revised to reflect the LCO 3.0.4 allowance.

This change was proposed by the industry's Technical Specification Task Force (TSTF) and is designated TSTF-359. The NRC staff issued a notice of opportunity for comment in the Federal Register on August 2, 2002 (67 FR 50475), on possible amendments concerning TSTF-359, including a model safety evaluation and model no significant hazards consideration (NSHC) determination, using the consolidated line item improvement process. The NRC staff subsequently issued a notice of availability of the models for referencing in license amendment applications in the Federal Register on April 4, 2003 (68 FR 16579). The licensee affirmed the applicability of the following NSHC determination in its application dated September 15, 2004.

Basis for proposed no significant hazards consideration determination: As required by 10 CFR 50.91(a), an analysis of the issue of no significant hazards consideration is presented below:

Criterion 1—The Proposed Change Does Not Involve a Significant Increase in the Probability or Consequences of an Accident Previously Evaluated

The proposed change allows entry into a mode or other specified condition in the applicability of a TS, while in a TS condition statement and the associated required actions of the TS. Being in a TS condition and the associated required actions is not an initiator of any accident previously evaluated. Therefore, the probability of an accident previously evaluated is not significantly increased. The consequences of an accident while relying on required actions as allowed by proposed LCO 3.0.4, are no different than the consequences of an accident while entering and relying on the required actions while starting in a condition of applicability of the TS. Therefore, the consequences of an accident previously evaluated are not significantly affected by this change. The addition of a requirement to assess and manage the risk introduced by this change will further minimize possible concerns. Therefore, this change does not involve a significant increase in the probability or consequences of an accident previously evaluated.

Criterion 2—The Proposed Change Does Not Create the Possibility of a New or Different Kind of Accident From Any Previously Evaluated

The proposed change does not involve a physical alteration of the plant (no new or different type of equipment will be installed). Entering into a mode or other specified condition in the applicability of a TS, while in a TS condition statement and the associated required actions of the TS, will not introduce new failure modes or effects and will not, in the absence of other unrelated failures, lead to an accident whose consequences exceed the consequences of accidents previously evaluated. The addition of a requirement to assess and manage the risk introduced by this change will further minimize possible concerns. Thus, this change does not create the possibility of a new or different kind of accident from an accident previously evaluated.

Criterion 3—The Proposed Change Does Not Involve a Significant Reduction in a Margin of Safety

The proposed change allows entry into a mode or other specified condition in the applicability of a TS, while in a TS condition statement and the associated required actions of the TS. The TS allow operation of the plant without the full complement of equipment through the conditions for not meeting the TS LCO. The risk associated with this allowance is managed by the imposition of required actions that must be performed within the prescribed completion times. The net effect of being in a TS condition on the margin of safety is not considered significant. The proposed change does not alter the required actions or completion times of the TS. The proposed change allows TS conditions to be entered, and the associated required actions and completion times to be used in new circumstances. This use is predicated upon the licensee's performance of a risk assessment and the management of plant risk. The change also eliminates current allowances for utilizing required actions and completion times in similar circumstances, without assessing and managing risk. The net change to the margin of safety is insignificant. Therefore, this change does not involve a significant reduction in a margin of safety.

The NRC staff proposes to determine that the amendment request involves no significant hazards consideration.

Attorney for licensee: General Counsel, Tennessee Valley Authority, 400 West Summit Hill Drive, ET 11A, Knoxville, Tennessee 37902.

NRC Section Chief: Michael L. Marshall, Jr.

Tennessee Valley Authority, Docket No. 50-390, Watts Bar Nuclear Plant, Unit 1, Rhea County, Tennessee

Date of amendment request: November 8, 2004.

Description of amendment request: The requested change will delete Technical Specification (TS) 5.9.1, “Occupational Radiation Exposure Report,” and TS 5.9.4, “Monthly Operating Reports.”

The NRC staff issued a notice of availability of a model no significant hazards consideration (NSHC) determination for referencing in license amendment applications in the Federal Register on June 23, 2004 (69 FR 35067). The licensee affirmed the applicability of the model NSHC determination in its application dated November 8, 2004.

Basis for proposed no significant hazards consideration determination: As required by 10 CFR 50.91(a), an analysis of the issue of no significant hazards consideration is presented below:

1. Does the proposed change involve a significant increase in the probability or consequences of an accident previously evaluated?

Response: No.

The proposed change eliminates the Technical Specifications (TSs) reporting requirements to provide a monthly operating letter report of shutdown experience and operating statistics if the equivalent data is submitted using an industry electronic database. It also eliminates the TS reporting requirement for an annual occupational radiation exposure report, which provides information beyond that specified in NRC regulations. The proposed change involves no changes to plant systems or accident analyses. As such, the change is administrative in nature and does not affect initiators of analyzed events or assumed mitigation of accidents or transients. Therefore, the proposed change does not involve a significant increase in the probability or consequences of an accident previously evaluated.

2. Does the proposed change create the possibility of a new or different kind of accident from any accident previously evaluated?

Response: No.

The proposed change does not involve a physical alteration of the plant, add any new equipment, or require any existing equipment to be operated in a manner different from the present design. Therefore, the proposed change does not create the possibility of a new or different kind of accident from any accident previously evaluated.

3. Does the proposed change involve a significant reduction in a margin of safety?

Response: No.

This is an administrative change to reporting requirements of plant operating information and occupational radiation exposure data, and has no effect on plant equipment, operating practices or safety analyses assumptions. For these reasons, the proposed change does not involve a significant reduction in the margin of safety.

Based upon the reasoning presented above, the requested change does not involve significant hazards consideration.

Attorney for licensee: General Counsel, Tennessee Valley Authority, 400 West Summit Hill Drive, ET 11A, Knoxville, Tennessee 37902.

NRC Section Chief: Michael L. Marshall, Jr.

Virginia Electric and Power Company, Docket Nos. 50-338 and 50-339, North Anna Power Station, Units No. 1 and No. 2, Louisa County, Virginia; Docket Nos. 50-280 and 50-281, Surry Power Station, Units No. 1 and 2, Surry County, VA

Date of amendment request: September 8, 2004.

Description of amendment request: The proposed amendments delete the requirements from the technical specifications (TS) to maintain hydrogen recombiners (North Anna Power Station only) and hydrogen monitors (North Anna and Surry Power Stations). Licensees were generally required to implement upgrades as described in NUREG-0737, “Clarification of TMI [Three Mile Island] Action Plan Requirements,” and Regulatory Guide (RG) 1.97, “Instrumentation for Light-Water-Cooled Nuclear Power Plants to Assess Plant and Environs Conditions During and Following an Accident.” Implementation of these upgrades was an outcome of the lessons learned from the accident that occurred at TMI, Unit 2. Requirements related to combustible gas control were imposed by Order for many facilities and were added to or included in the TS for nuclear power reactors currently licensed to operate. The revised title 10 of the Code of Federal Regulations (10 CFR), § 50.44, “Standards for Combustible Gas Control System in Light-Water-Cooled Power Reactors,” eliminated the requirements for hydrogen recombiners and relaxed safety classifications and licensee commitments to certain design and qualification criteria for hydrogen and oxygen monitors.

The NRC staff issued a notice of availability of a model no significant hazards consideration determination for referencing in license amendment applications in the Federal Register on September 25, 2003 (68 FR 55416). The licensee affirmed the applicability of the model NSHC determination in its application dated September 8, 2004.

Basis for proposed no significant hazards consideration determination: As required by 10 CFR 50.91(a), an analysis of the issue of no significant hazards consideration is presented below:

Criterion 1—The Proposed Change Does Not Involve a Significant Increase in the Probability or Consequences of an Accident Previously Evaluated

The revised 10 CFR 50.44 no longer defines a design-basis loss-of-coolant accident (LOCA) hydrogen release, and eliminates requirements for hydrogen control systems to mitigate such a release. The installation of hydrogen recombiners and/or vent and purge systems required by 10 CFR 50.44(b)(3) was intended to address the limited quantity and rate of hydrogen generation that was postulated from a design-basis LOCA. The Commission has found that this hydrogen release is not risk-significant because the design-basis LOCA hydrogen release does not contribute to the conditional probability of a large release up to approximately 24 hours after the onset of core damage. In addition, these systems were ineffective at mitigating hydrogen releases from risk-significant accident sequences that could threaten containment integrity.

With the elimination of the design-basis LOCA hydrogen release, hydrogen monitors are no longer required to mitigate design-basis accidents and, therefore, the hydrogen monitors do not meet the definition of a safety-related component as defined in 10 CFR 50.2. Category 1 in RG 1.97 is intended for key variables that most directly indicate the accomplishment of a safety function for design-basis accident events. The hydrogen monitors no longer meet the definition of Category 1 in RG 1.97. As part of the rulemaking to revise 10 CFR 50.44 the Commission found that Category 3, as defined in RG 1.97, is an appropriate categorization for the hydrogen monitors because the monitors are required to diagnose the course of beyond design-basis accidents.

The regulatory requirements for the hydrogen monitors can be relaxed without degrading the plant emergency response. The emergency response, in this sense, refers to the methodologies used in ascertaining the condition of the reactor core, mitigating the consequences of an accident, assessing and projecting offsite releases of radioactivity, and establishing protective action recommendations to be communicated to offsite authorities. Classification of the hydrogen monitors as Category 3, and removal of the hydrogen monitors from TS will not prevent an accident management strategy through the use of the severe accident management guidelines (SAMGs), the emergency plan (EP), the emergency operating procedures (EOP), and site survey monitoring that support modification of emergency plan protective action recommendations (PARs).

Therefore, the elimination of the hydrogen recombiner requirements and relaxation of the hydrogen monitor requirements, including removal of these requirements from TS, does not involve a significant increase in the probability or the consequences of any accident previously evaluated.

Criterion 2—The Proposed Change Does Not Create the Possibility of a New or Different Kind of Accident From Any Previously Evaluated

The elimination of the hydrogen recombiner requirements and relaxation of the hydrogen monitor requirements, including removal of these requirements from TS, will not result in any failure mode not previously analyzed. The hydrogen recombiner and hydrogen monitor equipment was intended to mitigate a design-basis hydrogen release. The hydrogen recombiner and hydrogen monitor equipment are not considered accident precursors, nor does their existence or elimination have any adverse impact on the pre-accident state of the reactor core or post accident confinement of radionuclides within the containment building.

Therefore, this change does not create the possibility of a new or different kind of accident from any previously evaluated.

Criterion 3—The Proposed Change Does Not Involve a Significant Reduction in the Margin of Safety

The elimination of the hydrogen recombiner requirements and relaxation of the hydrogen monitor requirements, including removal of these requirements from TS, in light of existing plant equipment, instrumentation, procedures, and programs that provide effective mitigation of and recovery from reactor accidents, results in a neutral impact to the margin of safety.

The installation of hydrogen recombiners and/or vent and purge systems required by 10 CFR 50.44(b)(3) was intended to address the limited quantity and rate of hydrogen generation that was postulated from a design-basis LOCA. The Commission has found that this hydrogen release is not risk-significant because the design-basis LOCA hydrogen release does not contribute to the conditional probability of a large release up to approximately 24 hours after the onset of core damage.

Category 3 hydrogen monitors are adequate to provide rapid assessment of current reactor core conditions and the direction of degradation while effectively responding to the event in order to mitigate the consequences of the accident. The intent of the requirements established as a result of the TMI, Unit 2 accident can be adequately met without reliance on safety-related hydrogen monitors.

Therefore, this change does not involve a significant reduction in the margin of safety. Removal of hydrogen monitoring from TS will not result in a significant reduction in their functionality, reliability, and availability.

The NRC staff proposes to determine that the amendment requests involve no significant hazards consideration.

Attorney for licensee: Ms. Lillian M. Cuoco, Esq., Senior Counsel, Dominion Resources Services, Inc., Millstone Power Station, Building 475, 5th Floor, Rope Ferry Road, Rt. 156, Waterford, Connecticut 06385.

NRC Section Chief: John A. Nakoski.

Virginia Electric and Power Company, Docket Nos. 50-338 and 50-339, North Anna Power Station, Units No. 1 and No. 2, Louisa County, Virginia; Docket Nos. 5050-280 and 50-281, Surry Power Station, Unit No. 1 and No. 2, Surry County, Virginia

Date of amendment request: December 21, 2004.

Description of amendment request: The requested change will delete Technical Specification requirements for the licensee to submit annual occupational radiation exposure reports and monthly operating reports.

The NRC staff issued a notice of availability of a model no significant hazards consideration (NSHC) determination for referencing in license amendment applications in the Federal Register on June 23, 2004 (69 FR 35067). The licensee affirmed the applicability of the model NSHC determination in its application dated December 21, 2004.

Basis for proposed no significant hazards consideration determination: As required by 10 CFR 50.91(a), an analysis of the issue of no significant hazards consideration is presented below:

1. Does the proposed change involve a significant increase in the probability or consequences of an accident previously evaluated?

Response: No.

The proposed change eliminates the Technical Specifications (TSs) reporting requirements to provide a monthly operating letter report of shutdown experience and operating statistics if the equivalent data is submitted using an industry electronic database. It also eliminates the TS reporting requirement for an annual occupational radiation exposure report, which provides information beyond that specified in NRC regulations. The proposed change involves no changes to plant systems or accident analyses. As such, the change is administrative in nature and does not affect initiators of analyzed events or assumed mitigation of accidents or transients. Therefore, the proposed change does not involve a significant increase in the probability or consequences of an accident previously evaluated.

Does the proposed change create the possibility of a new or different kind of accident from any accident previously evaluated?

Response: No.

The proposed change does not involve a physical alteration of the plant, add any new equipment, or require any existing equipment to be operated in a manner different from the present design. Therefore, the proposed change does not create the possibility of a new or different kind of accident from any accident previously evaluated.

3. Does the proposed change involve a significant reduction in a margin of safety?

Response: No.

This is an administrative change to reporting requirements of plant operating information and occupational radiation exposure data, and has no effect on plant equipment, operating practices or safety analyses assumptions. For these reasons, the proposed change does not involve a significant reduction in the margin of safety.

Based upon the reasoning presented above, the requested change does not involve significance hazards consideration.

Attorney for licensee: Ms. Lillian M. Cuoco, Esq., Senior Counsel, Dominion Resources Services, Inc., Millstone Power Station, Building 475, 5th Floor, Rope Ferry Road, Rt. 156, Waterford, Connecticut 06385.

NRC Section Chief: John A. Nakoski.

Wolf Creek Nuclear Operating Corporation, Docket No. 50-482, Wolf Creek Generating Station, Coffey County, Kansas

Date of amendment request: December 13, 2004.

Description of amendment request: This amendment would revise Technical Specification Surveillance Requirement (SR) 3.8.1.7 (fast-start test), SR 3.8.1.12 (safety injection actuation signal test), SR 3.8.1.15 (hot restart test), and SR 3.8.1.20 (redundant unit test) to clarify what voltage and frequency limits are applicable during the transient and steady state portions of the diesel generator (DG) start testing performed by these SRs.

Basis for proposed no significant hazards consideration determination: As required by 10 CFR 50.91(a), the licensee has provided its analysis of the issue of no significant hazards consideration, which is presented below:

1. The proposed change does not involve a significant increase in the probability or consequences of an accident previously evaluated.

The proposed change does not affect the DGs ability to supply the minimum voltage and frequency within 12 seconds or the steady state voltage and frequency. The DGs will continue to perform their intended safety function, in accordance with the safety analysis. The design of plant equipment is not being modified by the proposed change. In addition, the DGs and their associated emergency loads are accident mitigating features. As such, testing of the DGs themselves is not associated with any potential accident-initiating mechanism.

The proposed changes do not adversely affect accident initiators or precursors nor alter the design assumptions, conditions, or configuration of the facility or the manner in which the plant is operated and maintained. The proposed changes do not alter or prevent the ability of structures, systems, and components (SSCs) from performing their intended function to mitigate the consequences of an initiating event within the assumed acceptance limits. The proposed changes do not affect the source term, containment isolation, or radiological release assumptions used in evaluating the radiological consequences of an accident previously evaluated. Further, the proposed changes do not increase the types or amounts of radioactive effluent that may be released offsite, nor significantly increase individual or cumulative occupational [or] public radiation exposures. The proposed changes are consistent with the safety analysis assumptions and resultant consequences.

Therefore, the proposed changes do not involve a significant increase in the probability or consequences of an accident previously evaluated.

2. The proposed change does not create the possibility of a new or different accident from any accident previously evaluated.

The proposed change revises surveillance requirements to clarify what voltage and frequency limits are applicable during the transient and steady state portions of the DG start testing. No changes are being made in equipment hardware, operational philosophy, testing frequency, system operation, or how the DGs are physically tested.

The proposed changes do not result in a change in the manner in which the electrical distribution subsystems provide plant protection. The changes do not alter assumptions made in the safety analysis. The proposed changes are consistent with the safety analysis assumptions and current plant operating practice.

Therefore, the proposed changes do not create the possibility of a new or different kind of accident from any accident previously evaluated.

3. The proposed change does not involve a significant reduction in a margin of safety.

The margin of safety is related to the confidence in the ability of the fission product barriers to perform their design functions during and following an accident situation. These barriers include the fuel cladding, the reactor coolant system, and the containment system. The proposed change does not directly affect these barriers, nor do they involve any significantly adverse impact on the DGs which serve to support these barriers in the event of an accident concurrent with a loss of offsite power.

The proposed change does not alter the manner in which safety limits, limiting safety system settings or limiting conditions for operation are determined. The safety analysis acceptance criteria are not impacted by these changes. The proposed changes will not result in plant operation in a configuration outside the design basis.

Therefore, the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: Jay Silberg, Esq., Shaw, Pittman, Potts and Trowbridge, 2300 N Street, NW., Washington, DC 20037.

NRC Section Chief: Robert A. Gramm.

Previously Published Notices of Consideration of Issuance of Amendments to Facility Operating Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Calvert Cliffs Nuclear Power Plant, Inc., Docket Nos. 50-317 and 50-318, Calvert Cliffs Nuclear Power Plant, Unit Nos. 1 and 2, Calvert County, Maryland

Date of application for amendment: June 7, 2004.

Brief description of amendment: The proposed amendment revised Technical Specification 3.9.4, “Shutdown Cooling (SDC) and Coolant Circulation-High Water Level,” to incorporate the use of an alternate cooling method to function as a path for decay heat removal when in MODE 6 with the refueling pool fully flooded. The spent fuel pool cooling system is the alternative cooling method intended to be used as a substitute for the SDC system during the refueling operations, including during fuel movement.

Date of publication of individual notice in Federal Register: November 29, 2004 (69 FR 69417).

Expiration date of individual notice: January 27, 2005.

Pacific Gas and Electric Company, Docket Nos. 50-275 and 50-323, Diablo Canyon Nuclear Power Plant, Unit Nos. 1 and 2, San Luis Obispo County, California

Date of amendment request: November 3, 2004.

Brief description of amendment request: The proposed amendments would revise Technical Specification (TS) 3.7.17 and TS 4.3 for Cycles 14-16 to allow installation and use of a temporary cask pit spent fuel storage rack (cask pit rack) for Diablo Canyon Power Plant, Unit Nos. 1 and 2. The total spent fuel pool storage capacity for each unit would be increased from 1324 fuel assemblies to 1478 fuel assemblies for Cycles 14-16.

Date of publication of individual notice in Federal Register: December 21, 2004 (69 FR 76486).

Expiration date of individual notice: February 22, 2005.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Connecticut Yankee Atomic Power Company, Docket No. 50-213, Haddam Neck Plant, Middlesex County, Connecticut

Date of amendment request: August 11, 2004.

Brief description of amendment: The amendment revises Technical Specifications to eliminate operational requirements and certain design requirements that will no longer be applicable following the transfer of all of the spent fuel from the Haddam Neck Plant spent fuel pool into dry cask storage at the Haddam Neck Plant Independent Spent Fuel Storage Installation. The amendment relocates administrative requirements to the Connecticut Yankee Quality Assurance Program. The amendment also deletes the requirement for submittal of an annual Occupational Radiation Exposure Report.

Date of issuance: December 20, 2004.

Effective date: As of the date that all reactor fuel has been permanently removed from the spent fuel pool and stored in an Independent Spent Fuel Storage Installation. The license amendment shall be implemented within 60 days of its effective date.

Amendment No.: 201.

Facility Operating License No. DPR-61: The amendment revises the Technical Specifications.

Date of initial notice in Federal Register: September 28, 2004 (69 FR 57978).

The Commission's related evaluation of the amendment is contained in a Safety Evaluation Report, dated December 20, 2004.

No significant hazards consideration comments received: No.

Entergy Nuclear Operations, Inc., Docket No. 50-293, Pilgrim Nuclear Power Station, Plymouth County, Massachusetts

Date of application for amendment: October 12, 2004.

Brief description of amendment: This amendment approves an engineering evaluation performed in accordance with the Pilgrim Nuclear Power Station Technical Specifications (TS). TS 3.6.D.3 requires the licensee to perform an engineering evaluation when safety relief valve (SRV) discharge pipe temperatures exceed 212 °F during normal reactor power operation for a period greater than 24 hours, and TS 3.6.D.4 further requires that power operation may not continue beyond 90 days from the initial discovery of discharge pipe temperatures in excess of 212 °F, without prior NRC approval of the engineering evaluation. The Nuclear Regulatory Commission staff has reviewed the engineering evaluation and has determined that the licensee has adequately justified power operations beyond the end of the TS-required 90-day period for plant shutdown, until the next cold shutdown of 72 hours or more.

Date of issuance: December 23, 2004.

Effective date: As of the date of issuance, and shall be implemented within 30 days.

Amendment No.: 208.

Facility Operating License No. DPR-35: Amendment does not revise the Technical Specifications.

Date of initial notice in Federal Register: October 20, 2004 (69 FR 61695).

The Commission's related evaluation of the amendment is contained in a Safety Evaluation dated December 23, 2004.

No significant hazards consideration comments received: No.

Entergy Nuclear Operations, Inc., Docket No. 50-293, Pilgrim Nuclear Power Station, Plymouth County, Massachusetts

Date of application for amendment: December 8, 2003.

Brief description of amendment: The proposed amendment would delete a portion of the Pilgrim Nuclear Power Station (Pilgrim) Technical Specification (TS) 4.6.A.2, “Primary System Boundary—Thermal and Pressurization Limitations,” and the associate TS Table 4.6-3, “Reactor Vessel Material Surveillance Program Withdrawal Schedule.” The amendment would replace the existing Reactor Vessel Material Surveillance Program with the Boiling Water Reactor Vessel and Internal Project (BWRVIP) Integrated Surveillance Program (ISP) and Supplemental Surveillance Program (SSP). The BWRVIP ISP/SSP would be incorporated into the Pilgrim Updated Final Safety Analysis Report (UFSAR).

Date of issuance: January 5, 2005.

Effective date: As of the date of issuance, and shall be implemented within 60 days.

Amendment No.: 209.

Facility Operating License No. DPR-35: Amendment revised the Technical Specifications and updated the UFSAR.

Date of initial notice in Federal Register: February 17, 2004 (69 FR 7521).

The Commission's related evaluation of the amendment is contained in a Safety Evaluation dated January 5, 2005.

No significant hazards consideration comments received: No.

FirstEnergy Nuclear Operating Company, Docket No. 50-346, Davis-Besse Nuclear Power Station, Unit 1, Ottawa County, Ohio

Date of application for amendment: August 11, 2003, as supplemented January 9, May 3, and July 19, 2004.

Brief description of amendment: This amendment relocates the Technical Specification requirement to leak rate test the enclosure for decay heat removal system valves DH-11 and DH-12 to the Technical Requirements Manual.

Date of issuance: December 21, 2004.

Effective date: As of the date of issuance and shall be implemented within 120 days.

Amendment No.: 263.

Facility Operating License No. NPF-3: Amendment revised the Technical Specifications.

Date of initial notice in Federal Register: September 18, 2003 (68 FR 54750).

The supplemental letters contained clarifying information and did not change the initial no significant hazards consideration determination and did not expand the scope of the original Federal Register notice.

The Commission's related evaluation of the amendment is contained in a Safety Evaluation dated December 21, 2004.

No significant hazards consideration comments received: No.

Nebraska Public Power District, Docket No. 50-298, Cooper Nuclear Station, Nemaha County, Nebraska

Date of amendment request: May 27, 2004, as supplement by letter dated September 28, 2004.

Brief description of amendment: The amendment revises the Technical Specifications (TSs) to lower the reactor vessel water level at which the reactor water cleanup system isolates, secondary containment isolates, and the control room emergency filter system starts.

Date of issuance: December 23, 2004.

Effective date: As of the date of issuance and shall be implemented upon startup in Operating Cycle 23.

Amendment No.: 209.

Facility Operating License No. DPR-46: Amendment revised the TS.

Date of initial notice in Federal Register: June 22, 2004 (69 FR 34702).

The supplement dated September 28, 2004, provided additional information that clarified the application, did not expand the scope of the application as originally noticed, and did not change the staff's original proposed no significant hazards consideration determination as published in the Federal Register.

The Commission's related evaluation of the amendment is contained in a Safety Evaluation dated December 23, 2004.

No significant hazards consideration comments received: No.

Nuclear Management Company, LLC, Docket Nos. 50-266 and 50-301, Point Beach Nuclear Plant, Units 1 and 2, Town of Two Creeks, Manitowoc County, Wisconsin

Date of application for amendments: December 23, 2003.

Brief description of amendments: The amendments modified TS requirements to adopt the provisions of Industry/TS Task Force (TSTF) change TSTF-359, “Increased Flexibility in Mode Restraints.” The availability of TSTF-359 for adoption by licensees was announced in the Federal Register on April 4, 2003 (68 FR 16579).

Date of issuance: December 22, 2004.

Effective date: As of the date of issuance and shall be implemented within 120 days.

Amendment Nos.: 215, 220.

Facility Operating License Nos. DPR-24 and DPR-27: Amendments revised the Technical Specifications.

Date of initial notice in Federal Register: September 16, 2004 (69 FR 55844)

The Commission's related evaluation of the amendments is contained in a Safety Evaluation dated December 22, 2004.

No significant hazards consideration comments received: No.

Southern California Edison Company, et al., Docket Nos. 50-361 and 50-362, San Onofre Nuclear Generating Station, Units 2 and 3, San Diego County, California

Date of application for amendments: August 4, 2003, as supplemented by letters dated December 24, 2003, and June 3, August 24, and October 6 and 22, 2004.

Brief description of amendments: The proposed amendments would revise Technical Specification 3.9.3, “Containment Penetrations,” by adding a note to the limiting condition for operation that permits the containment equipment hatch to be open during core alterations and movement of irradiated fuel in containment during refueling operations.

Date of issuance: December 23, 2004.

Effective date: As of the date of issuance and shall be implemented within 60 days.

Amendment Nos.: 193/184.

Facility Operating License Nos. NPF-10 and NPF-15: The amendments revised the Technical Specifications.

Date of initial notice in Federal Register: September 18, 2003 (68 FR 54752). The supplemental letters dated December 24, 2003, and June 3, August 24, October 6, and October 22, 2004, provided additional information that clarified the application, did not expand the scope of the application as originally noticed, and did not change the NRC staff's original proposed no significant hazards consideration determination.

The Commission's related evaluation of the amendments is contained in a Safety Evaluation dated December 23, 2004.

No significant hazards consideration comments received: No.

STP Nuclear Operating Company, Docket No. 50-498, South Texas Project, Unit 1, Matagorda County, Texas

Date of amendment request: September 30, 2004.

Brief description of amendment: The amendment changes Technical Specification (TS) Surveillance Requirement 4.4.4.2 to expand the range of conditions under which quarterly testing of block valves for the pressurizer power operated relief valves would be unnecessary.

Date of issuance: December 28, 2004.

Effective date: As of the date of issuance and shall be implemented within 30 days of issuance.

Amendment No.: Unit 1—166.

Facility Operating License No. NPF-76: The amendment revised the Technical Specifications.

Date of initial notice in Federal Register: October 26, 2004 (69 FR 62477).

The Commission's related evaluation of the amendments is contained in a Safety Evaluation dated December 28, 2004.

No significant hazards consideration comments received: No.

STP Nuclear Operating Company, Docket Nos. 50-498 and 50-499, South Texas Project, Units 1 and 2, Matagorda County, Texas

Date of amendment requests: September 22, 2003, and September 27, 2004.

Brief description of amendments: The amendments change Technical Specification (TS) Surveillance Requirement 4.7.1.6, “Atmospheric Steam Relief Valves” to provide consistency with TS 3.3.5.1, “Atmospheric Steam Relief Valve Instrumentation,” regarding atmospheric steam relief valve automatic controls. The amendments also correct typographical errors in TSs 3.7.1.6 and 3.2.4. The remaining proposed changes associated with the September 22, 2003, application were withdrawn as noted in the NRC staff's letter to the licensee dated October 19, 2004.

Date of issuance: December 28, 2004.

Effective date: As of the date of issuance and shall be implemented within 30 days of issuance.

Amendment Nos.: Unit 1—167; Unit 2—156.

Facility Operating License Nos. NPF-76 and NPF-80: The amendments revised the Technical Specifications.

Date of initial notice in Federal Register: November 12, 2003 (68 FR 64139) for the September 22, 2003, application and October 26, 2004 (69 FR 62478) for the September 27, 2004, application.

The Commission's related evaluation of the amendments is contained in a Safety Evaluation dated December 28, 2004.

No significant hazards consideration comments received: No.

Dated at Rockville, Maryland, this 10th day of January, 2005.
For the Nuclear Regulatory Commission.
Ledyard B. Marsh,
Director, Division of Licensing Project Management, Office of Nuclear Reactor Regulation.

[FR Doc. 05-779 Filed 1-14-05; 8:45 am]

BILLING CODE 7590-01-P